DEPARTMENT OF AGRICULTURE

Office of the Secretary

7 CFR Parts 1, 2, 15, and 15f

Animal and Plant Health Inspection Service

7 CFR Part 371

Revision of Delegations of Authority

AGENCY: Office of the Secretary; Animal and Plant Health Inspection Service; USDA.

ACTION: Final rule.

SUMMARY: This document revises the delegations of authority from the Secretary of Agriculture and general officers of the Department of Agriculture (USDA) principally to reflect changes and additions to the delegations required by the Farm Security and Rural Investment Act of 2002, (FSRIA); the Public Health Security and Bioterrorism Preparedness and Response Act of 2002, the reorganization of offices under the Assistant Secretary for Administration and the establishment of the Homeland Security Staff; the authority delegated to the Judicial Officer to act in certain proceeding under the Plant Variety Protection Act, as amended, and the Agricultural Adjustment Act of 1938, as amended; the Livestock Mandatory Reporting Act of 1999; the Hass Avocado Promotion, Research, and Consumer Information Act of 2000; section 14 of the Watershed Protection and Flood Prevention Act; and the responsibilities of the United States related to activities of the Office International des Epizooties.

EFFECTIVE DATE: Effective May 20, 2003.

FOR FURTHER INFORMATION CONTACT: L. Benjamin Young, Jr., Deputy Assistant General Counsel, Office of the General Counsel, USDA, 1400 Independence Avenue, SW., Washington, DC 20250-1415, (202) 720-5565, benjamin.young@usda.gov.

SUPPLEMENTARY INFORMATION:

Farm Security and Rural Investment Act of 2002

The Secretary of Agriculture previously delegated authorities under the Farm Security and Rural Investment Act of 2002, Public Law 107-171 (FSRIA) in Secretary's Memorandum (SM) 1030-50 (July 10, 2002). This rule codifies those delegations as follows.

Title I of FSRIA authorizes the use of the Commodity Credit Corporation (CCC) to implement a number of programs for producers of agricultural commodities such as wheat, feed grains, cotton, rice, and oilseeds. Title X authorizes CCC to implement a livestock assistance program for producers who have incurred losses as the result of a natural disaster. Since Congress has routinely authorized, on an annual basis, the conduct by CCC of other similar commodity and disaster programs that consistently have been delegated to the Under Secretary for Farm and Foreign Agricultural Services, the delegations in 7 CFR 2.16 and 2.42 are amended to reflect the delegation of authority to the Under Secretary for Farm and Foreign Services and the Administrator of the Farm Service Agency, respectively, to implement all CCC-funded commodity programs that provide assistance to producers of agricultural commodities.

Additional, section 1504 of FSRIA expands the Dairy Products Mandatory Reporting program, which requires the collection and compilation of information with respect to prices, quantities sold, and inventories of dairy products in order to encourage competition, to include substantially identical products. The delegations at 7 CFR 2.21 and 2.68 are amended to reflect the delegation of this authority to the Under Secretary for Research, Education, and Economics and the Administrator of the National Agricultural Statistics Service, respectively.

Title II of FSRIA authorizes the use of the Commodity Credit Corporation (CCC) to implement a number of natural resources conservation programs. Since Congress has routinely authorized, on an annual basis, the conduct of CCC of the same or similar conservation programs that consistently have been delegated to the Under Secretary for Natural Resources and Environment, the delegations in 7 CFR 2.20 and 2.61 are amended to reflect the delegation of authority to the Under Secretary for Natural Resources and Environment and the Chief of the Natural Resources Conservation Service, respectively, to implement CCC-funded programs that provide assistance for natural resources conservation, except as elsewhere delegated.

Section 3107 of FSRIA authorized the President to establish the McGovern-Dole International Food for Education and Child Nutrition Program. By Presidential Memorandum dated March 11, 2003 (68 FR 12,569 (March 17, 2003)), the President delegated the authority to implement this program to the Secretary of Agriculture. The delegations in 7 CFR 2.16, 2.42, and 2.43, are amended to delegate to the Under Secretary for Farm and Foreign Agricultural Services and the Administrators of the Farm Service Agency and the Foreign Agricultural Service, respectively, the Secretary's authority to implement the program.

Section 4125 of FSRIA amended the Food Stamp Act to authorize a contract or grant to a nongovernmental organization meeting specified eligibility requirements to gather information on, and recommend, innovative programs for addressing common community problems. The delegations at 7 CFR 2.21 and 2.66 are amended to reflect the delegation of this authority by an SM signed September 27, 2002, to the Under Secretary for Research, Education, and Economics and the Administrator of the Cooperative State, Research, Education, and Extensions Service, respectively.

Section 4401 of FSRIA amended title IV of the Personal Responsibility and Work Opportunity Reconciliation Act of 1996 (PRWORA) to restore Food Stamp Program eligibility to certain disabled aliens, qualified alien children, and qualified aliens who have resided in the United States for a period of 5 years from their date of entry. The delegations at 7 CFR 2.19 and 2.57 are amended to delegate authority to administer those functions under PRWORA relating to the eligibility of aliens for benefits under the domestic food assistance programs to the Under Secretary for Food, Nutrition, and Consumer Services and the Administrator of the Food and Nutrition Service, respectively.

Section 4402 of FSRIA directs the Secretary to establish a Seniors Farmers' Market Nutrition Program (SFMNP) to operate through 2007. The purposes of the SFMNP are to provide resources in the form of fresh, nutritious, unprepared, locally grown fruits, vegetables and herbs from farmers' markets, roadside stands and community supported agriculture programs to low-income seniors and to increase domestic consumption of agricultural commodities by expanding and developing or aiding in the development of such outlets. The delegations at 7 CFR 2.19 and 2.57 are amended to delegate authority to administer the SFMNP to the Under Secretary for Food, Nutrition, and Consumer Services and the Administrator of the Food and Nutrition Service, respectively.

The delegations of authority at 7 CFR 2.16 and 2.42 are amended to reflect that the Under Secretary for Farm and Foreign Agricultural Services and the Administrator of the Farm Service Agency are delegated the responsibility to conduct studies and report to Congress on direct and guaranteed loan programs as required by section 5301 of FSRIA.

Title VI of FSRIA provided a number of new rural development program authorities to the Secretary. The delegations at 7 CFR 2.17 are amended to reflect delegation of these authorities to the Under Secretary for Rural Development, and 7 CFR 2.47, 2.48, and 2.49 are amended to reflect the further delegation of these authorities (with the exception of the Rural Strategic Investment Program) to the Administrators of the Rural Utilities Service (RUS), Rural Business-Cooperative Service (RBS), and Rural Housing Service (RHS), respectively, as follows: National Rural Development Partnership (RBS), the Rural Business Investment program (RBS), the Rural Telework program (RHS), the Historic Barn Preservation program (RHS), the Farm Workers Training Grant Program (RHS), the Value-Added Agricultural Product Market Development Grant program (RBS), the Agriculture Innovation Center Demonstration program (RBS), and the Rural Firefighters and Emergency Personnel Grant program (RHS), the Household Well-Water Grant program (RUS), the National Oceanic and Atmospheric Administration All-Hazards Weather Radio Transmitter Grant program (RUS), the SEARCH Grant program (RUS), and the Grants for Water Systems for Rural and Native Villages in Alaska (RUS).

Title VII of FSRIA provided a number of new research, education, economics, and extension authorities and requirements to the Secretary. The delegations at 7 CFR 2.21 are amended to reflect the delegation of these authorities to the Under Secretary for Reserach, Education, and Economics (REE), and the delegations at 7 CFR 2.65, 2.66, 2.67, and 2.68, are amended to reflect the further delegation of these authorities by the Under Secretary for REE to the Administrators of the Agricultural Research Service (ARS), Cooperative State Research, Education, and Extension Service (CSREES), Economic Research Service (ERS), and the National Agricultural Statistics Service (NASS), respectively, as follows: An overseas internship program with the Foreign Agricultural Service (CSREES); a competitive grants program for special purpose scientific research equipment (CSREES); authority for joint administration of grant programs with other Federal agencies (CSREES); a beginning farmer and rancher development program (CSREES); a program of grants to colleges and universities in insular areas for resident instruction and distance education (CSREES); a program of public education regarding use of biotechnology in producing food for human consumption (CSREES); a requirement to ensure organic agricultural product information is included in agricultural production and marketing data (NASS); a program of grants to the Girl Scouts of the United States of America, the Boy Scouts of America, National 4-H Council and the National Future Farmers of America Organization (CSREES); authority to terminate the Federal personnel appointments of certain State extension employees holding joint Federal-State employment appointments (CSREES); a requirement for the inclusion of certain data in estimates of net farm income (ERS); and a broad authority, using any legal authority available to the Secretary, to carry out agricultural research, education, and extension activities to counter chemical or biological terrorism and enhance the biosecurity of the United States (CSREES). Additionally, a grant program regarding certain diseases of wheat and barley was expanded to include diseases of triticale, specifically Tilletia indica and related fungi (ARS).

Title VII of FSRIA also included an authorization for establishment of a Senior Scientific Research Service that has been delegated through the Assistant Secretary for Administration to the Office of Human Resources Management.

Title IX of FSRIA authorizes several new programs related to energy. The delegations at 7 CFR 2.29 are amended to reflect the delegation of authority to the Chief Economist to develop guidelines and establish a voluntary labeling program for the Biobased Products Federal Procurement Program and to administer the Biodiesel Fuel Education grants program. 7 CFR 2.29 is also amended to reflect the delegation to the Chief Economist of responsibility for entering into a memorandum of understanding with the Secretary of Energy regarding hydrogen and fuel cell technology programs for rural communities and agricultural producers, and that responsibility is further delegated by the Chief Economist to the Director, Office of Energy Policy and New Uses by amendment of 7 CFR 2.73.

The delegations at 7 CFR 2.17 are amended to reflect the delegation of authority to the Under Secretary for Rural Development to administer the Renewable Energy System and Energy Efficiency Improvements program, the Biorefinery Development Grant program, and the Energy Audit and Renewable Energy Development Program, and 7 CFR 2.48 is further amended to reflect delegation of the Renewable Energy Systems and Energy Efficiency Improvements program to the Administrator of RBS.

The delegations at 7 CFR 2.21 and 2.66 are amended to reflect the delegation of authority to the Under Secretary for Research, Education, and Economics and the Administrator of CSREES to carry out a program of cooperative research and extension projects on carbon cycling and greenhouse gas exchanges from agriculture.

Title X, Subtitle E of FSRIA, titled the “Animal Health Protection Act,” updates and consolidates a number of animal health statutes. Section 10504 of FSRIA authorizes the Secretary to develop a program to maintain in all regions of the United States a sufficient number of Federal and State veterinarians who are well trained in recognition and diagnosis of exotic and endemic animal diseases. The delegations at 7 CFR 2.22 and 2.80 are amended to reflect the delegation of authority to administer the Animal Health Protection Act and the section 10504 veterinary program to the Under Secretary for Marketing and Regulatory Programs and to the Administrator of the Animal and Plant Health Inspection Service (APHIS). 7 CFR 371.4 is amended to reflect the delegation of this authority further from the Administrator of APHIS to the Deputy Administrator for Veterinary Services. Titles 7 and 9 of the Code of Federal Regulations will be amended in a future rulemaking action to add the Animal Health Protection Act to authority citations and to make any other changes deemed necessary as a result of the enactment of this law.

Section 10605 of FSRIA requires the Secretary to establish a Farmers' Market Promotion Program to promote the establishment, expansion, and promotion of farmers' markets, section 10606 establishes a National Organic Certification Cost-Share program to provide funds to assist organic producers and handlers in obtaining certification under the national organic production program, and section 10607 exempts producers of 100 percent organic products from assessments under any commodity promotion law for any agricultural commodity produced on a certified organic farm. The delegations at 7 CFR 2.22 and 2.79 are amended to reflect the delegation of these authorities to the Under Secretary for Marketing and Regulatory Programs and the Administrator of the Agricultural Marketing Service, respectively.

Section 10704 authorizes the Secretary to establish the position of the Assistant Secretary for Civil Rights (ASCR). The Secretary established that position by SM 1030-57 (March 7, 2003). Accordingly, delegations of authority for civil rights previously made to the Assistant Secretary for Administration (ASA) under 7 CFR 2.24(a)(3) are transferred to the ASCR and codified in § 2.25, and the delegations to the Office of Civil Rights, currently at 7 CFR 2.89, are transferred to the ASCR under a new subpart R at § 2.300. Additionally, conforming changes are made in 7 CFR parts 15 and 15f to reflect the transfer of authority from the ASA to the ASCR.

Section 10805 of FSRIA authorizes a program of grants to the Food and Agricultural Policy Research Institute. The delegations at 7 CFR 2.21 and 2.66 are amended to reflect the delegation of this authority to the Under Secretary for Research, Education, and Economics and the Administrator of CSREES, respectively.

Section 10808(a) of FSRIA directs the Secretary of Agriculture to conduct an education program regarding the availability and safety of processes and treatments that eliminate or substantially reduce the level of pathogens on meat, meat food products, poultry, and poultry products. The delegations at 7 CFR 2.18 and 2.53 are amended to reflect the delegation of authority for this program to the Under Secretary for Food Safety and the Administrator of the Food Safety and Inspection Service.

Section 10816 of FSRIA establishes a Country of Origin Labeling program that requires retailers of specified agricultural commodities to inform consumers of the specified country of origin of those commodities. The delegations at 7 CFR 2.22 and 2.79 are amended to reflect the delegation of this authority to the Under Secretary for Marketing and Regulatory Programs and the Administrator of the Agricultural Marketing Service, respectively.

Public Health Security and Bioterrorism Preparedness and Response Act of 2002

Title II, Subtitle B, of the Public Health Security and Bioterrorism Preparedness and Response Act of 2002, Public Law 107-188, authorizes the Secretary to regulate the possession, use, and transfer of biological agents and toxins that pose a severe threat to plant or animal health, or animal or plant products. This authority was delegated to the Under Secretary for Marketing and Regulatory Programs and authorized to be delegated further to the Administrator of APHIS by SM 1030-054 (December 6, 2002). The delegations at 7 CFR 2.22 and 2.80 are amended to reflect the delegation of the Secretary's authority to administer Title II, Subtitle B, of the Act to the Under Secretary for Marketing and Regulatory Programs and APHIS. 7 CFR 371.3 and 371.4 is amended to reflect the further delegation of this authority from the Administrator of APHIS to the Deputy Administrators of Plant Protection and Quarantine and Veterinary Services.

Trade Act of 2002

Section 141 of the Trade Act of 2002, Public Law 107-210, amended title II of the Trade Act of 1974 to authorize the Secretary of Agriculture to provide “Trade Adjustment Assistance for Farmers.” Under this program, a group of agricultural commodity producers may petition the Secretary for benefits if the Secretary determines that prices for the commodity produced by the group have declined by an amount specified in the statute and increases in imports contributed importantly to the decline. The delegations at 7 CFR 2.16 and 2.43 are amended to delegate to the Under Secretary for Farm and Foreign Agricultural Services and the Administrator, Foreign Agricultural Services, respectively, the authority to implement this new provision.

Departmental Administration

A number of changes are made to the delegations of authority to the Assistant Secretary for Administration and to the offices that report to him.

SM 1020-052 (August 15, 2002) established a new Homeland Security Staff and transferred the lead responsibility for hazardous materials management and federal facilities environmental compliance, previously delegated to the Director, Hazardous Materials Management Group (HMMG), to the ASA and under him, to the Director of the Office for Procurement and Property Management (OPPM), to whom the HMMG will now report. The delegations at 7 CFR 2.24, 2.25 (which as noted above become will now become the delegation for the ASCR), 2.32, and 2.93 are revised to reflect the removal of the HGGM from the published delegations and to reflect the division of the security and emergency planning and response functions formerly under the ASA and OPPM between OPPM and a new Homeland Security Staff. The ASA and OPPM are responsible for administration of the Continuity of Operations and Continuity of Government plans and the classification of information and administration of personnel security functions. The Homeland Security Staff is delegated authority for providing overall leadership and coordination of programs to plan for and respond to major natural and terrorist emergencies and threats.

The National Historic Preservation Act function and Indian affairs function are transferred from the Assistant Secretary for Congressional Relations to the ASA.

The ASA, the Director, Office of Operations, are delegated authority related to Department services for occupational health and related functions.

Responsibility for oversight of the Department Conflict Prevention and Resolution Center is transferred from the Office of Planning and Coordination to the Office of Human Resources Management (OHRM).

Finally, technical changes have been made to the delegations to the ASA and OHRM to make clear their authorities to take adverse actions are redelegable.

Judicial Officer

This rule simplifies the language of the delegation of authority to the Judicial Officer and makes three substantive changes to that authority.

Plant Variety Protection Act

Pursuant to section 63 of the Plant Variety Protection Act (7 U.S.C. 2443), when the Plant Variety Protection Officers refuses an application for plant variety protection, the applicant may appeal to the Secretary of Agriculture. Effective December 1, 1977, the Secretary of Agriculture delegated authority to the Judicial Officer to exercise the functions of the Secretary of Agriculture where an appeal is filed under 7 U.S.C. 2443 (42 FR 61029). However, this delegation of authority is not reflected in the Code of Federal Regulations. Accordingly, this final rule amends 7 CFR 2.35 to reflect the Judicial Officer's authority to act as final deciding officer in appeals under section 63 of the Plant Variety Protection Act (7 U.S.C. 2443).

Pursuant to section 91 of the Plant Variety Protection Act, as amended (7 U.S.C. 2501), when a person notifies the Secretary of Agriculture of facts which may have a hearing on the protectability of a plant variety, the Secretary of Agriculture may cause the plant variety protection to be reexamined. This final rule delegates authority from the Secretary of Agriculture to the Judicial Officer to act as final deciding officer in reexamination proceedings under section 91 of the Plant Variety Protection Act, as amended (7 U.S.C. 2501).

Agricultural Adjustment Act of 1938

Pursuant to section 359i of the Agricultural Adjustment Act of 1938, as amended (7 U.S.C. 1359ii), adversely affected persons may appeal allocations of marketing allotments and arbitrated disputes between processors and producers or groups of producers regarding the sharing of processors' allocations to the Secretary of Agriculture. This final rule delegates authority from the Secretary of Agriculture to the Judicial Officer to act as final deciding officer in adjudicatory proceedings under section 359i of the Agricultural Adjustment Act of 1938, as amended (7 U.S.C. 1359ii), and to issue rules of practice applicable to proceedings conducted pursuant to section 359i of the Agricultural Adjustment Act of 1938, as amended (7 U.S.C. 1359ii).

Agricultural Risk Protection Act of 2000

Sections 203(f) and 253 of the Agricultural Risk Protection Act of 2000 (Pub. L. 106-244) (“ARPA”), respectively, authorize programs for Apple Loans and Emergency Loans for Seed Producers. The delegations at 7 CFR 2.16 and 2.42 are amended to reflect the delegation of authority to administer these programs to the Under Secretary for Farm and Foreign Agricultural Services and the Administrator of the Farm Service Agency.

The V of ARPA authorizes the Secretary of Agriculture to assess civil penalties not to exceed $10,000 against any person who causes harm to, or interferes with, an animal used for official inspections by the Department of Agriculture, and to subpoena witnesses and the production of documentary evidence relating to matters under investigation. The delegations at 7 CFR 2.22, 2.80, and 371.3 are amended to reflect the delegation of this authority to the Under Secretary for Marketing and Regulatory Programs, the Administrator of APHIS, and the Deputy Administrator for Plant Protection and Quarantine.

Livestock Mandatory Reporting Act of 1999

The Livestock Mandatory Reporting Act of 1999 (7 U.S.C. 1635-1636(h)) established a program requiring reporting of information regarding the marketing of cattle, swine, lambs, and products of such livestock in order to provide producers, packers, and others in the marketplace with information regarding pricing, contracting, and supply and demand conditions for livestock and livestock products. The delegations at 7 CFR 2.22 and 2.79 are amended to reflect the delegation of this authority to the Under Secretary for Marketing and Regulatory Programs and the Administrator of the Agricultural Marketing Service, respectively.

Hass Avocado Promotion, Research, and Consumer Information Act of 2000

The purpose of the Hass Avocado Promotion, Research, and Consumer Information Act of 2000 (7 U.S.C. 7801-7813) is to establish, through assessments on Hass avocados sold by producers and importers, a coordinated program of promotion, research, industry information, and consumer information to strengthen and expand the domestic market for Hass avocados. The delegations at 7 CFR 2.22 and 2.79 are amended to reflect the delegation of this authority to the Under Secretary for Marketing and Regulatory Programs and the Administrator of the Agricultural Marketing Service, respectively.

Office International des Epizooties (OIE)

The Office International des Epizooties (OIE) is the international forum for setting animal health standards, reporting global animal situations and disease status, and presenting guidelines and recommendations on sanitary measures relating to animal health. The Trade Agreement Act of 1979, as amended (19 U.S.C. 2531 et seq.), gives the Secretary of Agriculture responsibilities related to international standards for agricultural products, which include animals and animal products. Further, section 491 of the Trade Agreement Act of 1979, as amended (19 U.S.C. 2578), requires the President to designate an agency to be responsible for informing the public of the sanitary and phytosanitary (SPS) standard-setting activities of each international standard-setting organization. The President, pursuant to Proclamation No. 6780 of March 23, 1995 (60 FR 15845), designated the Secretary of Agriculture as the official responsible for informing the public of the SPS standard-setting activities of certain international standard-setting organizations, including the OIE.

The delegations at 7 CFR 2.22 and 2.80 are amended to reflect the delegation of authority for carrying out responsibilities of the United States related to activities of the OIE to the Under Secretary for Marketing and Regulatory Programs and to the Administrator of APHIS. 7 CFR 371.4 is amended to reflect the delegation of this authority further from the Administrator of APHIS to the Deputy Administrator for Veterinary Services.

Watershed Protection and Flood Prevention Act

Section 313 of the Grain Standards and Warehouse Improvement Act of 2002, Public Law 106-472, added a new section 14 to the Watershed Protection and Flood Prevention Act (16 U.S.C. 1012) authorizing the Secretary to provide technical and financial assistance to sponsoring organizations to rehabilitate water resource projects owned and operated by the sponsors that were installed under programs administered by the Natural Resources Conservation Service. The delegations at 7 CFR 2.20 and 2.61 are amended to reflect the delegation of that authority by SM 1030-049 (January 16, 2002) to the Under Secretary for Natural Resources and Environment and the Chief, Natural Resources Conservation Service, respectively.

Miscellaneous

A number of miscellaneous minor changes have been made to the delegations for other reasons. The delegation of authority in 7 CFR 1.189 to take final action in matters covered by the Equal Access to Justice Act, 5 U.S.C. 504, is revised. The headings for 7 CFR part 2, subpart N, § 2.22, and § 2.80(a) are revised to reflect the change in the title of the policy official responsible for Marketing and Regulatory Programs. The title of this position was changed from “Assistant Secretary” to “Under Secretary” by the Agriculture, Rural Development, Food and Drug Administration, and Related Agencies Appropriations Act, 1999 (Pub. L. 105-277). References in 7 CFR 2.22 and 2.80 references to statutes repealed by the Plant Protection Act (Title IV, Pub. L. 106-224, 114 Stat. 438, 7 U.S.C. 7701-7772) are removed. The delegations of authority for outreach and technical assistance to socially disadvantaged farmers and ranchers under 7 U.S.C. 2279 have been revised to reflect the fact that this authority has been removed from the Natural Resources Conservation Service, and that the authority to enter into contracts and other agreements pursuant to 7 U.S.C. 2279 has been transferred from the Assistant Secretary for Administration and Office of Outreach to the Under Secretary for Research, Education, and Economics and the Cooperative State Research, Education, and Extension Service. The reservations of authority by the Secretary in 7 CFR 2.22(b)(2) related to animal and plant health inspection are amended to update the authority citations.

Additional changes have been made to the REE mission area delegations to reflect the repeal of authorities, to consolidate some paragraphs, and to clarify the delegation regarding the McIntire-Stennis Cooperative Forestry Program.

Classification

Finally, this rules relates to internal agency management. Accordingly, pursuant to 5 U.S.C. 553, notice of proposed rulemaking and opportunity for comment are not required, and this rule may be made effective less than 30 days after publication in the Federal Register. This rule also is exempt from the provisions of Executive Orders 12866 and 12988. This action is not a rule as defined by the Regulatory Flexibility Act, Pub. L. 96-354, and the Small Business Regulatory Fairness Enforcement Act, 5 U.S.C. 801 et seq., and thus is exempt from the provisions of those Acts.

This rule contains no information collection or recordkeeping requirements under the Paperwork Reduction Act of 1995 (44 U.S.C. 3501 et seq.).

List of Subjects

7 CFR Part 1

Administrative practice and procedure, Authority delegations (Government agencies), Equal access to justice.

7 CFR Part 2

Authority delegations (Government agencies).

7 CFR Part 15

Administrative practice and procedure, Authority delegations (Government agencies), Civil rights, Nondiscrimination.

7 CFR Part 15f

Administrative practice and procedure, Authority delegations (Government agencies), Civil rights.

7 CFR Part 371

Authority delegations (Government agencies).

Accordingly, Title 7 of the Code of Federal Regulations is amended as set forth below:

PART 1—ADMINISTRATIVE REGULATIONS

1. The authority for Part 1 continues to read as follows:

Authority: 5 U.S.C. 301, unless otherwise noted. Subpart J also issued under 5 U.S.C. 504(c)(1).

2. Revise § 1.189 to read as follows:

§ 1.189 Delegations of authority.

(a) Except as provided in paragraph (b) of this section, the Secretary of Agriculture delegates to the Judicial Officer authority to take final action on matters pertaining to the Act in proceedings covered by these rules. The Secretary by order may delegate authority to take final action on matters pertaining to the Act in particular cases to other subordinate officials or bodies.

(b)(1) The Secretary of Agriculture delegates to the Director of the National Appeals Division authority to take final actions on matters pertaining to the Act for proceedings under 7 CFR part 11.

(2) With respect to proceedings covered under § 1.183(b)(1)(ii) of this part, the Board of Contract Appeals is authorized by statute (41 U.S.C. 607) to take final action.

PART 2—DELEGATIONS OF AUTHORITY BY THE SECRETARY OF AGRICULTURE AND GENERAL OFFICERS OF THE DEPARTMENT

1. The authority for Part 2 continues to read as follows:

Authority: 7 U.S.C. 6912(a)(1); 5 U.S.C. 301; Reorganization Plan No. 2 of 1953; 3 CFR 1949-1953 Comp., p. 1024.

Subpart C—Delegations of Authority to the Deputy Secretary, the Under Secretaries and Assistant Secretaries

2.-3. Revise § 2.4 to read as follows:

§ 2.4 General officers.

The work of the Department is under the supervision and control of the Secretary who is assisted by the following general officers: the Deputy Secretary, the Under Secretary for Farm and Foreign Agricultural Services; the Under Secretary for Rural Economic and Community Development; the Under Secretary for Food Safety; the Under Secretary for Food, Nutrition, and Consumer Services; the Under Secretary for Natural Resources and Environment; the Under Secretary for Research, Education, and Economics; the Under Secretary for Marketing and Regulatory Programs; the Assistant Secretary for Congressional Relations; the Assistant Secretary for Administration; the Assistant Secretary for Civil Rights; the General Counsel; the Inspector General; the Chief Financial Officer; the Chief Information Officer; the Judicial Officer; the Director, Office of Budget and Program Analysis; the Chief Economist; the Director, National Appeals Division; and the Director of Communications.

4. Amend § 2.16 to add paragraphs (a)(1)(xxv), (a)(1)(xxvi), (a)(2)(xiv), (a)(2)(xv), (a)(3)(xliii), and (a)(3)(xliv) to read as follows:

§ 2.16 Under Secretary for Farm and Foreign Agricultural Services

(a) * * *

(1) * * *

(xxv) Administer all programs of the Commodity Credit Corporation that provide assistance with respect to the production of agricultural commodities, including disaster assistance and the domestic marketing of such commodities, except as may otherwise be reserved by the Secretary of Agriculture.

(xxvi) Administer the following provisions of the Farm Security and Rural Investment Act of 2002 with respect to functions otherwise delegated to the Under Secretary for Farm and Foreign Agricultural Services:

(A) The equitable relief provisions of section 1613 (7 U.S.C. 7996).

(B) The tracking of benefits under section 1614 (7 U.S.C. 7997).

(C) The development of a plan and related report to coordinate land retirement and agricultural working land conservation programs under section 2005 (16 U.S.C. 3801 note).

* * * * *

(2) * * *

(xiv) Administer programs for Apple Loans and Emergency Loans for Seed Producers under sections 203(f) and 253, respectively, of the Agricultural Risk Protection Act of 2000 (7 U.S.C. 1421 note, Pub. L. 106-224).

(xv) Administer evaluations of direct and guaranteed loan programs under section 5301 of the Farm security and Rural Investment Act of 2002 (7 U.S.C. 1922 note).

* * * * *

(3) * * *

(xliii) Implement provisions of the Trade Act of 1974 regarding adjustment assistance for farmers (19 U.S.C. 2401-2401g).

(xliv) Implement section 3107 of the Farm Security and Rural Investment Act of 2002 (7 U.S.C. 173o-1), expect for the authority to designate Federal agencies under section 3107(d) that is reserved to the President.

* * * * *

5. Amend § 2.17 to revise paragraphs (a)(20)(iv), (a)(21)(ii), (a)(21)(xi), and (a)(22)(i), and add new paragraphs (a)(20)(x), (a)(21)(xxi), (a)(21)(xxii), (a)(21)(xxiii), (a)(22)(vi), (a)(24), (a)(25), and (a)(26) to read as follows:

§ 2.17 Under Secretary for Rural Development.

(a) * * *

(20) * * *

(iv) Administer the following sections of the Consolidated Farm and Rural Development Act (7 U.S.C. 1921, et seq.):

(A) Section 306 (7 U.S.C. 1926), related to water and waste facilities.

(B) Section 306A (7 U.S.C. 1926a).

(C) Section 306B (7 U.S.C. 1926b).

(D) Section 306C (7 U.S.C. 1926c).

(E) Section 306D (7 U.S.C. 1926d).

(F) Section 306E (7 U.S.C. 1926e).

(G) Section 309 (7 U.S.C. 1929) and 309A (7 U.S.C. 1929a), relating to assets and programs related to watershed facilities, resource and conservation facilities, and water and waste facilities.

(H) Section 310A (7 U.S.C. 1931), relating to watershed and resource conservation and development

(I) Section 310B(b) (7 U.S.C. 1932(b)).

(J) Section 310B(i) (7 U.S.C. 1932(i)), relating to loans for business telecommunications partnerships.

(K) Administrative Provisions of subtitle D of the consolidated Farm and Rural Development act relating to rural utility activities.

(L) Section 379B (7 U.S.C. 2008p).

* * * * *

(x) Administer the SEARCH Grants for Small Communities Program (7 U.S.C. 2009ee et seq.)

(21) * * *

(ii) Administer the following sections of the Consolidated Farm and Rural Development Act (7 U.S.C. 1921 et seq.):

(A) Section 306(a)(110(A) (7 U.S.C. 1926(a)(11)(A)), relating to grants for business technical assistance and planning.

(B) Section 304(b) (7 U.S.C. 1924(b)), relating to small business enterprises.

(C) Sections 309 (7 U.S.C. 1929) and 309A (7 U.S.C. 1929a), relating to assets and programs related to rural development.

(D) Section 310B (7 U.S.C. 1932), relating to rural industrialization assistance, rural business enterprises grants and rural technology and cooperative development grants.

(E) Section 312(b) (7 U.S.C. 1942(b)), relating to small business enterprises.

(F) Administrative Provisions of subtitle D of the Consolidated Farm and Rural Development Act relating to rural business-cooperative activities.

(G) Section 378 (7 U.S.C. 2008m) relating to the National Rural Development Partnership;

(H) Section 384A et seq. (7 U.S.C. 2009cc et seq.) relating to the Rural Business Investment Program;

(I) Section 385A et seq. (7 U.S.C. 2009dd et seq.) relating to Rural Strategic Investment Program.

* * * * *

(xi) Administer the assets of the Alternative Agricultural Research and Commercialization Corporation and the funds in the Alternative Agricultural Research and Commercialization Fund in accordance with section 6201 of the Farm Security and Rural Investment Act of 2000 (note to 7 U.S.C. 5901 (repealed)).

* * * * *

(xxi) Administer the Value-Added Agricultural Product Market Development Grant program (note to 7 U.S.C. 1621).

(xxii) Administer the Agriculture Innovation Center Demonstration program (note to 7 U.S.C. 1621).

(xxiii) Administer the Renewable Energy System and Energy Efficiency Improvements program (7 U.S.C. 8106).

(22) Related to rural housing. (i) Administer the following under the Consolidated Farm and Rural Development Act ( 7 U.S.C. 1921 et seq.):

(A) Section 306 (7 U.S.C. 1926), except with respect to financing for water and waste disposal facilities; or loans for rural electrification or telephone systems or facilities other than hydroelectric generating and related distribution systems and supplemental and supporting structures if they are eligible for Rural Utilities Service financing; and financing for grazing facilities and irrigation and drainage facilities; and subsection 306(a)(11).

(B) Section 309A (7 U.S.C. 1929a), regarding assets and programs relating to community facilities.

(C) Administrative Provisions of subtitle D of the Consolidated Farm and Rural Development Act relating to rural housing activities.

(D) Section 379 (7 U.S.C. 2008n) relating to the Rural Telework program;

(E) Section 379A (7 U.S.C. 2008o) relating to the Historic Barn Preservation program; and

(F) Section 379C (7 U.S.C. 2008q) relating to the Farm Workers Training Grant program.

* * * * *

(vi) Administer the Rural Firefighters and Emergency Personnel Grant program (7 U.S.C. 2655).

* * * * *

(24) Administer the Biorefinery Development Grant program (7 U.S.C. 8103).

(25) Administer the Energy Audit and Renewable Energy Development program (7 U.S.C. 8105).

(26) Related cooperative agreements. Enter into cooperative agreements with other Federal agencies, State and local governments, and any other organizations or individuals to improve the coordination and effectiveness of Federal programs, services, and actions affecting rural areas, including the establishment and financing of interagency groups, as long as the objectives of the agreement will serve the mutual interest of the parties in rural development activities (7 U.S.C. 2204b(b)(4)).

* * * * *

6. Amend § 2.18 to revise paragraphs (a)(1)(ii)(F) and (G) and add paragraph (a)(1)(ii)(H) to read as follows:

§ 2.18 Under Secretary for Food Safety.

(a) * * *

(1) * * *

(ii) * * *

(F) National Laboratory Accreditation Program (7 U.S.C. 138-138i) with respect to laboratories accredited only for pesticide residue analysis in meat and poultry products;

(G) Administer and conduct a Food Safety Research Program (7 U.S.C. 427); and

(H) Conduct an education program regarding the availability and safety of processes and treatments that eliminate or substantially reduce the level of pathogens on meat, meat food products, poultry, and poultry products (21 U.S.C. 679b).

* * * * *

7. Amend § 2.19 to revise paragraph (a)(l)(i) and add paragraph (a)(1)(vi) to read as follows:

§ 2.19 Under Secretary for Food, Nutrition, and Consumer Services.

(a) * * *

(1) * * *

(i) Administer the following legislation:

(A) the Food Stamp Act of 1977, as amended (7 U.S.C. 2011-2032).

(B) Richard B. Russell National School Lunch Act, as amended (42 U.S.C. 1751-1769h), except procurement of agricultural commodities and other foods under section thereof.

(C) Child Nutrition Act of 1966, as amended (42 U.S.C. 1771-1790).

(D) Sections 933-939 of the Food, Agriculture, Conservation, and Trade Act Amendments of 1991 (7 U.S.C. 5930 note).

(E) Section 301 of the Healthy Meals for Healthy Americans Act of 1994 (Pub. L. 103-448).

(F) Section 4402 of the Farm Security and Rural Investment Act of 2002 (7 U.S.C. 3007).

* * * * *

(vi) Administer those functions under title IV of the Personal Responsibility and Work Opportunity Reconciliation Act of 1996 (8 U.S.C. 1612) relating to the eligibility of aliens for benefits under the domestic food assistance programs.

* * * * *

8. Amend § 2.20 as follows:

a. Revise paragraphs (a)(3)(iv)(E), (a)(3)(xiii), (a)(3)(xvi), and (a)(3)(xviii),

b. Remove paragraph (a)(3)(xix) and (a)(9),

c. Redesignate paragraph (a)(3)(xx) as (xix) and paragraph (a)(3)(xxii) as paragraph (a)(3)(xii). The revisions read as follows:

§ 2.20 Under Secretary for Natural Resources and Environment.

(a) * * *

(3) * * *

(iv) * * *

(E) The Watershed Protection and Flood Prevention Program under 16 U.S.C. 1001-1010, including rehabilitation of water resource structural measures constructed under certain Department of Agriculture programs under 16 U.S.C. 1012, except for responsibilities assigned to the Under Secretary for Rural Development.

* * * * *

(xiii) Except as otherwise delegated, administer natural resources conservation authorities, including authorities related to programs of the Commodity Credit Corporation that provide assistance with respect to natural resources conservation, under Title XII of the Food Security Act of 1985 (the Act), as amended (16 U.S.C. 3801 et seq.), including the following:

(A) Technical assistance related to the conservation of highly erodible lands and wetlands pursuant to sections 1211-1223 of the Act (16 U.S.C. 3811-3823).

(B) Technical assistance related to the Conservation Reserve Program authorized by sections 1231-1235A of the Act (16 U.S.C. 3831-3835a).

(C) The Wetlands Reserve Program and the Emergency Wetlands Reserve Program authorized by sections 1237-1237F of the Act (16 U.S.C. 3837-3837f) and the Emergency Supplemental Appropriations for Relief from the Major, Widespread Flooding in the Midwest Act, Public Law 103-75.

(D) The Conservation Security Program authorized by sections 1238-1238C (16 U.S.C. 3838-3838c).

(E) The Farmland Protection Program authorized by sections 1238H-1238I of the Act (16 U.S.C. 3838h-3838i).

(F) The Farm Viability Program authorized by section 1238J of the Act (16 U.S.C. 3838j).

(G) The Environmental Easement Program authorized by sections 1239-1239D of the Act (16 U.S.C. 3839-3839d).

(H) The Environmental Quality Incentives Program authorized by sections 1240-1240I of the Act (16 U.S.C. 3839aa-3839aa-9).

(I) The conservation of private grazing lands authorized by section 1240M of the Act (16 U.S.C. 3839bb).

(J) The Wildlife Habitat Incentives Program authorized by section 1240N of the Act (16 U.S.C. 3839bb-1).

(K) The program for soil erosion and sedimentation control in the Great Lakes basin authorized by section 1240P of the Act (16 U.S.C. 3839bb-3).

(L) The delivery of technical assistance under section 1242 of the Act (16 U.S.C. 3842), including the approval of persons or entities outside of USDA to provide technical services.

(M) The authority for partnerships and cooperation provided by section 1243 of the Act (16 U.S.C. 3843), except for responsibilities assigned to the Under Secretary for Farm and Foreign Agricultural Services.

(N) The incentives for beginning farmers and ranchers and Indian tribes and the protection of certain proprietary information related to natural resources conservation programs as provided by section 1244 of the Act (16 U.S.C. 3844), except for responsibilities assigned to the Under Secretary for Farm and Foreign Agricultural Services.

* * * * *

(xvi) Administer the following provisions of the Farm Security and Rural Investment Act of 2002 with respect to functions otherwise delegated to the Under Secretary for Natural Resources and Environment:

(A) The equitable relief provisions of section 1613 (7 U.S.C. 7996).

(B) The tracking of benefits under section 1614 (7 U.S.C. 7997).

(C) The development of a plan and related report to coordinate land retirement and agricultural working land conservation programs under section 2005 (16 U.S.C. 3801 note).

* * * * *

(xviii) Administer the agricultural management assistance provisions of section 524(b) of the Federal Crop Insurance Act, as amended (7 U.S.C. 1524(b)), except for responsibilities assigned to the Under Secretary for Farm and Foreign Agricultural Services.

* * * * *

9. Amend § 2.21 as follows:

a. Remove and reserve paragraphs (a)(1)(xxvi), (a)(1)(lxiii), (a)(1)(lxxxvii), (a)(1)(cxxii), and (a)(1)(cxlii);

b. Revise paragraphs (a)(1)(x), (a)(1)(xxxi), (a)(1)(xxxv), (a)(1)(liii), (a)(1)(ciii), (a)(1)(cxli), (a)(1)(clvii), and (a)(1)(clxiv);

c. Add new paragraphs (a)(1)(lv), (a)(1)(lxxviii), (a)(1)(lxxxii), (a)(1)(lxxxiii), (a)(1)clxxii) through (a)(1)(clxxxii), and (a)(8)(xiv) through (a)(1)(xvi); to read as follows:

§ 2.21 Under Secretary for Research, Education, and Economics.

(a) * * *

(1) * * *

(x) Evaluate, assess, and report to congressional agriculture committees on the merits of proposals for agricultural research facilities in the States, and ensure that each research activity conducted by an Agricultural Research Service facility serves a national or multistate need (7 U.S.C. 390 et seq.).

* * * * *

(xxvi) [Removed and reserved]

* * * * *

(xxxi) Make grants and enter into contracts and other agreements for outreach and technical assistance to socially disadvantaged farmers and ranchers (7 U.S.C. 2279(a)(3)).

* * * * *

(xxxv) Administer, in cooperation with land-grant colleges and universities where applicable, a rural development research and extension program, a small farm research and extension program, and a rural health and safety education program under the Rural Development Act of 1972, as amended (7 U.S.C. 2661-2667).

* * * * *

(liii) Provide policy direction and coordinate the Department's work with national and international institutions and other persons throughout the world in the performance of agricultural research, extension, teaching, and development activities; administer a program of competitive grants for collaborative projects involving Federal scientists or scientists from colleges and universities working with scientists at international agricultural research centers in other nations focusing either on new technologies and programs for increasing the production of food and fiber or training scientists and a program of competitive grants to colleges and universities to strengthen United States economic competitiveness and to promote international market development; establish a program in coordination with the Foreign Agricultural Service to place interns from United States colleges and universities at Foreign Agricultural Service field offices overseas; and provide a biennial report to the Committee on Agriculture of the House of Representatives and the Committee on Agriculture, Nutrition, and Forestry of the Senate on efforts of the Federal Government to coordinate international agricultural research within the Federal Government, and to more effectively link the activities of domestic and international agricultural researchers, particularly researchers of the Agricultural Research Service (7 U.S.C. 3291, 3292b).

* * * * *

(lv) Administer a program of competitive grants to colleges and universities and State cooperative institutions for the acquisition of special purpose scientific research equipment for use in the food and agricultural sciences (7 U.S.C. 3310a).

* * * * *

(lxiii) [Removed and reserved]

(lxxviii) Administer a rural electronic commerce extension program through grants to regional rural development centers and competitive grants to land-grant colleges and universities and to colleges and universities (including community colleges) with agricultural or rural development programs (7 U.S.C. 5923).

* * * * *

(lxxxii) Administer competitive grants to support research and extension activities regarding organically grown and processed agricultural commodities (7 U.S.C. 5925b).

(lxxxiii) Facilitate access, through the Economic Research Service and the Agricultural Research Service (including the National Agricultural Library), by research and extensions professionals, farmers, and other interested persons in the United States to, and the use by those persons of, organic research conducted outside the United States (7 U.S.C. 5925d).

* * * * *

(lxxxvii) [Removed and reserved]

* * * * *

(ciii) Administer a cooperative forestry program in accordance with the McIntire-Stennis Cooperative Forestry Act, and administer a competitive forestry, natural resources, and environmental grant program (16 U.S.C. 582A-582A-8).

* * * * *

(cxxii) [Removed and reserved]

* * * * *

(cxli) Implement and administer the Community Food Projects Program and the Innovative Programs for Addressing Common Community Problems pursuant to the provisions of section 25 of the Food Stamp Act of 1977 (7 U.S.C. 2034).

(cxlii) [Removed and reserved]

* * * * *

(clvii) Administer an Initiative for Future Agriculture and Food Systems (7 U.S.C. 7621).

* * * * *

(clxiv) Administer grants to consortia of land-grant colleges and universities to enhance the ability of the consortia to carry out multi-State research projects aimed at understanding and combating diseases of wheat, triticale, and barley caused by Fusarium graminearum and related fungi or Tilletia indica and related fungi (7 U.S.C. 7628).

* * * * *

(clxxii) Cooperate with other Federal agencies (including the National Science Foundation) in issuing joint requests for proposals, awarding grants, and administering grants under any competitive agricultural research, education, or extension grant program (7 U.S.C. 3319b).

(clxxiii) Administer a program of competitive grants, establish education teams, and establish an online clearinghouse of curricula and training materials and programs, all for training, education, outreach, and technical assistance initiatives for the benefit of beginning farmers and ranchers (7 U.S.C. 3319f).

(clxxiv) Administer agricultural research, education, and extension activities (including through competitive grants), using any authority available to the Secretary, to reduce the vulnerability of the United States food and agricultural system to chemical or biological attack, to continue partnerships with institutions of higher education and other institutions to help form stable, long-term programs to enhance the biosecurity of the United States, to make competitive grants to universities and qualified research institutions for research on counterbioterrorsims, and to counter or otherwise respond to chemical or biological attack (7 U.S.C. 3351).

(clxxv) Administer a program of competitive grants to colleges and universities for expansion and security upgrades to enhance the security of agriculture against bioterrorism threats (7 U.S.C. 3352).

(clxxvi) Administer programs for distance education grants and resident instruction grants to eligible institutions in insular areas that have demonstrable capacity to carry out teaching and extension programs in the food and agricultural sciences (7 U.S.C. 3361-3363).

(clxxvii) Develop and implement a program to communicate with the public regarding the use of biotechnology in producing food for human consumption (7 U.S.C. 5921a).

(clxxviii) Administer a program of cooperative research (including through competitive award of grants and cooperative agreements to colleges and universities) and extension projects on carbon cycling in soils and plants, the exchange of other greenhouse gases from agriculture, and the carbon sequestration benefits of conservation practices (7 U.S.C. 6711).

(clxxix) Administer a program, in coordination with State veterinarians and other appropriate State animal health professionals, to conduct research, testing, and evaluation of programs for the control and management of Johne's disease in livestock (7 U.S.C. 7629).

(clxxx) Administer a program of grants to the Girl Scouts of the United States of America, the Boy Scouts of America, the National 4-H Council, and the National FFA Organization to establish pilot projects to expand the programs carried out by the organizations in rural areas and small towns (7 U.S.C. 7630).

(clxxxi) Oversee implementation of the termination of Federal schedule A civil service appointments of State agricultural extension employees at land-grant colleges and universities (section 7220 of Pub. L. 107-171).

(clxxxii) Administer a program of grants to the Food and Agricultural Policy Research Institute (section 10805 of Pub. L. 107-171).

* * * * *

(8) * * *

(xiv) Ensure that segregated data on the production and marketing of organic agricultural products is included in the ongoing baseline of data collection regarding agricultural production and marketing (7 U.S.C. 5925c).

(xv) Administer a program of mandatory reporting for dairy products and substantially identical products (7 U.S.C. 1637a, 1637b).

(xvi) Include in each issuance of projections of net farm income an estimate of the net farm income earned by commercial producers in the United States that will in addition show the estimate of net farm income attributable to commercial producers of livestock, loan commodities, and agricultural commodities other than loan commodities (7 U.S.C. 7998).

* * * * *

10. Amend § 2.22 to revise the heading, the introductory text of paragraph (a), and paragraphs (a)(5) and (b)(2), and to add new paragraphs (a)(1)(viii)(CCC) through (a)(1)(viii)(FFF), (a)(2)(xlvii), (a)(2)(xlviii), (a)(2)(xlix), (a)(2)(xlx) to read as follows:

§ 2.22 Under Secretary for Marketing and Regulatory Programs

(a) The following delegations of authority are made by the Secretary to the Under Secretary for Marketing and Regulatory Programs:

* * * * *

(1) * * *

(viii) Exercise the functions of the Secretary of Agriculture with respect to the following programs:

(CCC) Farmers' Market Promotion Program (7 U.S.C. 2005).

(DDD) National Organic Certification Cost-Share Program (7 U.S.C. 6523).

(EEE) Exemption of Certified Organic Products from Assessment (7 U.S.C. 7401).

(FFF) Country of Origin Labeling (7 U.S.C. 1638-1638(d)).

(GGG) Hass Avocado Promotion, Research, and Consumer Information Act of 2000 (7 U.S.C. 7801-7813).

* * * * *

(2) * * *

(xlvii) Animal Health Protection Act (7 U.S.C. 8301-8317).

(xlviii) Section 10504 of the Farm Security and Rural Investment Act of 2002 (7 U.S.C. 8318).

(xlix) Title V of the Agricultural Risk Protection Act of 2000 (7 U.S.C. 2279e and 2279f).

(xlx) The responsibilities of the United States related to activities of the Office of International des Epizooties.

* * * * *

(5) Related to defense and emergency preparedness.

(i) Administer responsibilities and functions assigned under the Defense Production Act of 1950, as amended (50 U.S.C. App. 2061 et seq.), and title VI of the Robert T. Stafford Disaster Relief and Emergency Assistance Act (42 U.S.C. 5195 et seq.), concerning protection of livestock, poultry and crops and products thereof from biological and chemical warfare; and utilization or disposal of livestock and poultry exposed to radiation.

(ii) Title II, Subtitles B and C, of the Public Health Security and Bioterrorism Preparedness and Response Act of 2002 (7 U.S.C. 8401 note, 8401, 8411).

* * * * *

(b) * * *

(2) Related to animal and plant health inspection.

(i) Determination that an emergency or extraordinary emergency exists under the Animal Health Protection Act (7 U.S.C. 8306, 8316).

(ii) Determination that an emergency or extraordinary emergency exists under the Plant Protection Act (7 U.S.C. 7715, 7772).

(iii) Approval of requests for apportionment of reserves for the control of outbreaks of insects, plant diseases, and animal diseases to the extent necessary to meet emergency conditions (31 U.S.C. 1512).

* * * * *

§ 2.23 [Amended]

11. Remove in § 2.23 paragraphs (a)(2)(v) and (a)(3).

12. Amend § 2.24 as follows:

a. Revise paragraphs (a)(4)(viii), (a)(5)(i), (a)(6)(vii), (a)(6)(ix)(L), (a)(6)(ix)(M), (a)(9), (a)(10), and (a)(17),

b. Remove and reserve paragraphs (a)(3), (a)(4)(ii), (a)(6)(x)(T), (a)(7)(xv), and (a)(14),

c. Remove paragraph (a)(14) added at 65 FR 77756, Dec. 13, 2003,

d. Add new paragraphs (a)(6)(xxv), (a)(6)(xxvi), (a)(18), (a)(19), and (a)(20) to read as follows:

§ 2.24 Assistant Secretary for Administration.

(a) * * *

(3) [Removed and reserved]

(4) * * *

(ii) [Removed and reserved]

* * * * *

(viii) Establish requirements and procedures for reporting agency outreach status and accomplishments including Departmental reporting under the Outreach and Assistance for Socially Disadvantaged Farmers and Ranchers Program (7 U.S.C. 2279).

(5) * * *

(i) Provide services for Department headquarters in the Washington, DC metropolitan area and at emergency relocation sites and certain critical facilities specified by the Assistant Secretary for Administration in the following areas:

(A) Acquiring, leasing, utilizing, constructing, maintaining, and disposing of real and personal property, including control of space assignments;

(B) Acquiring, storing, distributing, and disposing of forms;

(C) Mail management and all related functions; and

(D) Occupational health services and related functions.

* * * * *

(6) * * *

(vii) Authorize and make final decisions on adverse actions, except in those cases where the Assistant Secretary for Administration has participated.

* * * * *

(ix) * * *

(L) Authorize and make final decisions on adverse actions for positions in GS-1-15 or equivalent;

(M) Authorize and make final decisions on adverse actions for positions in the career Senior Executive Service or equivalent;

* * * * *

(x) * * *

(T) [Removed and reserved]

* * * * *

(xxv) Formulate and issue Department policy, standards, rules, and regulations relating to the Senior Scientific Research Service (7 U.S.C. 7657).

(xxvi) Redelegate, as appropriate, any authority delegated under paragraph (a)(6) to general officers of the Department and heads of Departmental agencies.

(7) * * *

(xv) [Removed and reserved]

* * * * *

(9) Related to emergency preparedness. Provide guidance to the development and administration of the Department's Continuity of Operations Plan and to USDA participation in the Continuity of Government Plan. This includes:

(i) Managing the Department Emergency Operations Center and alternate facilities.

(ii) Providing guidance and direction regarding continuity of operations to Departmental staff offices, mission areas, and agencies.

(iii) Representing and acting as liaison for the Department in contacts with other Federal entities and organizations concerning matters of assigned responsibilities.

(iv) Overseeing Department continuity of operations, planning, and emergency relocation facilities to ensure that resources are in a constant state of readiness.

(10) Related to compliance with environmental laws and environmental management systems. (i) Take action pursuant to Executive Order 12088, 3 CFR, 1978 Comp., p. 243, to comply with environmental pollution control laws with respect to facilities and activities under his or her authority, including, but not limited to, entering into inter-agency agreements, administrative consent orders, consent judgments, or other agreements with the appropriate Federal, State, interstate, or local agencies to achieve and maintain compliance with applicable pollution control standards.

(ii) Provide program leadership and oversight for USDA compliance with applicable pollution control laws and executive orders, including Executive Order 13148, Greening of the Government Through Leadership in Environmental Management.

(iii) Provide program leadership and coordination for USDA's energy conservation and energy efficiency activities, and serve as USDA's principal Energy Conservation Officer, pursuant to Executive Order 13123, Greening of the Government Through Efficient Energy Management.

(iv) Promulgate policies, standards, techniques, and procedures, and represent the Department, in prevention, control, and abatement of pollution with respect to Federal facilities and activities under the control of the Department (Executive Order 12088, 3 CFR, 1978 Comp., p. 243).

(v) Review and approve exemptions for USDA contracts, subcontracts, grants, agreements, and loans from the requirements of the Clean Air Act, as amended (42 U.S.C. 7401, et seq.), the Clean Water Act, as amended (33 U.S.C. 1251, et seq.), and Executive Order 11738, 3 CFR, 1971-1975 Comp., p. 799, when he or she determines that the paramount interest of the United States so requires as provided in these acts and Executive Order and the regulations of the Environmental Protection Agency (40 CFR 32.215(b)).

(vi) Coordinate USDA waste prevention, recycling, and procurement, acquisition and use of recycled products and environmentally preferable products, including biobased products, and services, and serve as a USDA Environmental Executive, pursuant to Executive Order 13101.

(vii) Serve on the USDA Hazardous Materials Policy Council.

(viii) Represent USDA in consulting or working with the Environmental Protection Agency (EPA), the Council on Environmental Quality, the Domestic Policy Council, and others to develop policies relating to hazardous materials management and Federal facilities compliance with applicable pollution control laws.

(ix) Monitor, review, evaluate, and oversee hazardous materials management program activities and compliance Department-wide.

(x) Monitor, review, evaluate, and oversee USDA agency expenditures for hazardous materials management program accomplishments.

(xi) Prepare for the USDA Hazardous Materials Policy Council the Hazardous Materials Management Program budget request to the Office of Management and Budget (OMB) and Congress, prepare accomplishment reports to Congress, OMB, and EPA, and take a lead role in the preparation of replies to Congressional inquires.

(xii) Represent USDA on the National Response Team on hazardous spills and oil spills pursuant to the Comprehensive Environmental Response, Compensation, and Liability Act of 1980, as amended (42 U.S.C. 9601, et seq.); the Clean Water Act, as amended (33 U.S.C. 1251, est seq.); Oil Pollution Act, as amended (33 U.S.C. 2701, et seq.); Executive Order 12580, 3 CFR, 1987 Comp., p. 193; Executive Order 12777, 3 CFR, 1991 Comp., p. 351, and the National Oil and Hazardous Substances Contingency Plan, 40 CFR Part 300.

(xiii) Approve disbursements from the New World Mine Response and Restoration Account, approve the New World Mine Response and Restoration Plan, and make quarterly reports to Congress under Sections 502(d) and (f) of Title V of the Department of the Interior and Related Agencies Appropriations Act of 1998, Public Law 105-83.

(xiv) Ensure that the Hazardous Materials Management Program Department-wide is accomplished with regard to, and in compliance with, Executive Order 12898, Federal Actions to Address Environmental Justice in Minority Populations and Low-Income Populations.

(xv) Take such action as may be necessary, with the affected agency head and with the concurrence of the General Counsel, including issuance of administrative orders and agreements with any person to perform any response action under sections 106(a) and 122 (except subsection (b)(1)) of the Comprehensive Environmental Response, Compensation, and Liability Act of 1980, as amended (42 U.S.C. 9606(a), 9622), pursuant to sections 4(c)(3) and 4(d)(3) of Executive Order 12580, as amended by Executive Order 13016.

* * * * *

(14) [Removed and reserved]

* * * * *

(17) Related to budget and finance. Exercise general financial and budget authority over all organizations assigned to the Assistant Secretary for Administration.

(18) Related to historic preservation. Administer the implementation of the National Historic Preservation Act of 1966, 16 U.S.C. 470 et seq., Executive Order 11593, 3 CFR, 1971-1975 Comp., p. 559, and regulations of the Advisory Council on Historic preservation, 36 CFR part 800, for the Department of Agriculture with authority to name the Secretary's designee to the Advisory Council on Historic Preservation.

(19) Related to interactions with American Indians. Serve as the official with the principal responsibility for the implementation of Executive order 13175, including consultation and collaboration with tribal officials, and coordinate the Department's programs involving assistance to American Indians and Alaska Natives.

(20) Relating to personnel security and the safeguarding of national security information:

(i) Direct and administer USDA's personnel security and public trust programs established pursuant to Executive Order 12968, Access to Classified Information (3 CFR 1995 Comp. pp 391-402) and 5 CFR 731.

(ii) Manage the personnel security functions of the Department including programs for eligibility access determinations, obtaining security clearances for USDA employees, denial or revocation of access to national security information, and developing and promulgating policies and training.

(iii) Direct and administer USDA's program under which information is safeguarded pursuant to Executive Order 12958, Classified National Security Information.

(iv) Establish Information Security (INFOSEC) policies and procedures for classifying, declassifying, safeguarding, and disposing of classified national security information and materials.

(v) Establish procedures under which authorized holders of information may challenge the classification of information believed to be improperly classified or unclassified.

(vi) Take corrective action for violations or infractions under section 5.7, par. (b), of Executive Order 12958.

(vii) Develop and maintain a secure facility for the receipt and safeguarding of classified material.

(viii) Coordinate security activities with the Chief Information Officer who has primary responsibility for PDD 63, Critical Infrastructure Assurance.

* * * * *

13. Redesignate § 2.25 to Subpart C and revise to read as follows:

§ 2.25 Assistant Secretary for Civil Rights.

(a) The following delegations of authority are made by the Secretary to the Assistant Secretary for Civil Rights:

(1) Provide overall leadership, coordination, and direction for the Department's programs of civil rights, including program delivery, compliance, and equal employment opportunity, with emphasis on the following:

(i) Actions to enforce Title VI of the Civil Rights Act of 1964, 42 U.S.C. 2000d, prohibiting discrimination in Federally assisted programs.

(ii) Actions to enforce Title VII of the Civil Rights Act of 1964, as amended, 42 U.S.C. 2000e, prohibiting discrimination in Federal employment.

(iii) Actions to enforce Title IX of the Education Amendments of 1972, 20 U.S.C. 1681, et seq., prohibiting discrimination on the basis of sex in USDA education programs and activities funded by the Department.

(iv) Actions to enforce the Age Discrimination Act of 1975, 42 U.S.C. 6102, prohibiting discrimination on the basis of age in USDA programs and activities funded by the Department.

(v) Actions to enforce Section 504 of the Rehabilitation Act of 1973, as amended, 29 U.S.C. 794, prohibiting discrimination against individuals with disabilities in USDA programs and activities funded by the Department.

(vi) Actions to enforce section 504 of the Rehabilitation Act of 1973, as amended, 29 U.S.C. 794, prohibiting discrimination against individuals with disabilities in USDA conducted programs.

(vii) Actions to enforce Title II of the Americans with Disabilities Act of 1990, as amended, 42 U.S.C. 12131, et seq., prohibiting discrimination against individuals with disabilities in State and local government services.

(viii) Actions to enforce related Executive Orders, Congressional mandates, and other laws, rules, and regulations, as appropriate.

(ix) Actions to develop and implement the Department's Federal Women's Program.

(x) Actions to develop and implement the Department's Hispanic Employment Program.

(2) Evaluate Departmental agency programs, activities, and impact statements for civil rights concerns.

(3) Provide leadership and coordinate Departmental agencies and systems for targeting, collecting, analyzing, and evaluating program participation data and equal employment opportunity data.

(4) Provide leadership and coordinate Departmentwide programs of public notification regarding the availability of USDA programs on a nondiscriminatory basis.

(5) Coordinate with the Department of Justice on matters relating to Title VI of the Civil Rights Act of 1964 (42 U.S.C. 2000d), Title IX of the Education Amendments of 1972 (20 U.S.C. 1681, et seq.), and section 504 of Rehabilitation Act of 1973, as amended (29 U.S.C. 794), except those matters in litigation, including administrative enforcement actions, which shall be coordinated by the Office of the General Counsel.

(6) Coordinate with the Department of Health and Human Services on matters relating to the Age Discrimination Act of 1975, 42 U.S.C. 6102, except those matters in litigation, including administrative enforcement actions, which shall be coordinated by the Office of the General Counsel.

(7) Order proceedings and hearings in the Department pursuant to §§ 15.9(e) and 15.86 of this title which concern consolidated or joint hearings within the Department or with other Federal departments and agencies.

(8) Order proceedings and hearings in the Department pursuant to § 15.8 of this title after the program agency has advised the applicant or recipient of his or her failure to comply and has determined that compliance cannot be secured by voluntary means.

(9) Issue orders to give a notice of hearing or the opportunity to request a hearing pursuant to part 15 of this title; arrange for the designation of an Administrative Law Judge to preside over any such hearing; and determine whether the Administrative Law Judge so designated will make an initial decision or certify the record to the Secretary of Agriculture with his or her recommended findings and proposed action.

(10) Authorize the taking of action pursuant to § 15.8(a) of this title relating to compliance by “other means authorized by law.”

(11) Make determinations required by § 15.8(d) of this title that compliance cannot be secured by voluntary means, and then take action, as appropriate.

(12) Make determinations, after legal sufficiency reviews by the Office of the General Counsel, that program complaint investigations performed under § 15.6 of this title establish a proper basis for findings of discrimination, and that actions taken to correct such findings are adequate.

(13) Perform investigations and make final determinations, after legal sufficiency reviews by the Office of the General Counsel, on both the merits and required corrective action, as to complaints filed under part 15d of this title.

(14) Conduct investigations and compliance reviews Departmentwide.

(15) Develop regulations, plans, and procedures necessary to carry out the Department's civil rights programs, including the development, implementation, and coordination of Action Plans.

(16) Coordinate the Department's affirmative employment program, special emphasis programs, Federal Equal Opportunity Recruitment Program, equal employment opportunity evaluations, and development of policy.

(17) Provide liaison on equal employment opportunity programs and activities with the Equal Employment Opportunity Commission and the Office of Personal Management.

(18) Monitor, evaluate, and report on agency compliance with established policy and Executive Orders which further the participation of historically Black colleges and universities, the Hispanic-serving institutions, 1994 tribal land grant institutions, and other colleges and universities with substantial minority group enrollment in Departmental programs and activities.

(19) Is designated as the Department's Director of Equal Employment Opportunity with authority to perform the functions and responsibilities of that position under 29 CFR part 1614, including the authority to make changes in programs and procedures designed to eliminate discriminatory practices and improve the Department's program for Equal Employment Opportunity (EEO), to provide equal opportunity services for managers and employees, and to make final agency decisions, after legal sufficiency reviews by the Office of the General Counsel, on EEO complaints by Department employees or applicants for employment and order such corrective measures in such complaints as may be considered necessary, including the recommendation for such disciplinary action as is warranted when an employee has been found to have engaged in a discriminatory practice.

(20) Maintain liaison with historically Black colleges and universities, the Hispanic-serving institutions, 1994 tribal land grant institutions, and other colleges and universities with substantial minority group enrollment, and assist Department agencies in strengthening such institutions by facilitating institutional participation in Department programs and activities and by encouraging minority students to pursue curricula that could lead to careers in the food and agricultural sciences.

(21) Administer the Department's EEO Program.

(22) Oversee and manage the EEO counseling function for the Department.

(23) Administer the discrimination appeals and complaints program for the Department, including all formal individual or group appeals, where the system provides for an avenue of redress to the Department level, Equal Employment Opportunity Commission, or other outside authority.

(24) Process formal EEO discrimination complaints by employees or applicants for employment.

(25) Investigate Department EEO and program discrimination complaints.

(26) Make final decisions, after legal sufficiency reviews by the Office of the General Counsel, or both EEO and program discrimination complaints, except in those cases where the Assistant Secretary has participated in the events that gave rise to the matter.

(27) Order such corrective measures in EEO complaints as may be considered necessary, including the recommendation for such disciplinary action as is warranted when an employee has been found to engage in a discriminatory practice.

(28) Provide liaison on EEO matters concerning complaints and appeals with the Department agencies and Department employees.

(29) Make final determinations, or enter into settlement agreements, after legal sufficiency reviews by the Office of the General Counsel, on discrimination complaints in conducted programs subject to the Equal Credit Opportunity Act. This delegation includes the authority to make compensatory damage awards whether pursuant to a final determination or in a settlement agreement under the authority of the Equal Credit Opportunity Act and the authority to obligate agency funds, including CCC and FCIC funds to satisfy such an award.

(30) Require corrective action on findings on discrimination on program complaints and recommend to the Secretary that relief be granted under 7 U.S.C. 6998(d), notwithstanding the finality of National Appeals Divisions decisions.

(31) Make final determinations in proceedings under part 15f of this title where review of an administrative law judge decision is undertaken.

(32) Provide civil rights and equal employment opportunity support services, with authority to take actions required by law or regulation to perform such services for:

(i) The Secretary of Agriculture.

(ii) The general officers of the Department.

(iii) The offices and agencies reporting to the Assistant Secretary for Administration.

(iv) Any other offices or agencies of the Department as may be agreed.

Subpart D—Delegations of Authority to Other General Officers and Agency Heads

14. Add to § 2.29 new paragraphs (a)(11)(vii), (a)(11)(viii) and (a)(11)(ix) to read as follows:

§ 2.29 Chief Economist.

(a) * * *

(11) * * *

(vii) Establish guidelines for use in the Federal procurement of biobased products in consultation with the Administrators of the Environmental Protection Agency and General Services and the Director, National Institute of Standards and Technology, and establish, in consultation with the Administrator of the Environmental Protection Agency, a voluntary “USDA Certified Biobased Product” labeling program (7 U.S.C. 8102).

(viii) Administer a competitive biodiesel fuel education grants program (7 U.S.C. 8104).

(ix) Implement a memorandum of understanding with the Secretary of Energy regarding cooperation in the application of hydrogen and fuel cell technology programs for rural communities and agricultural producers (7 U.S.C. 8107).

15. Revise § 2.32 to read as follows:

§ 2.32 Director, Homeland Security Staff.

(a) The following delegations of authority are made by the Secretary to the Director, Homeland Security Staff:

(1) Administer the Department Emergency Preparedness Program. This includes the:

(i) Coordination of the delegations and assignments made to the Department under the Defense Production Act, 50 U.S.C. App. 2061, et seq., and the Robert T. Stafford Disaster Relief and Emergency Assistance Act, 42 U.S.C. 5121, et seq., by Executive Orders 12148, “Federal Emergency Management,” and 12919, “National Defense Industrial Resources Preparedness,” and Executive Order 12656, November 18, 1988, “Assignment of Emergency Preparedness Responsibilities,” or any successor to these Executive Orders, to ensure that the Department has sufficient capabilities to respond to any occurrence, including natural disaster, military attack, technological emergency, or any other emergency.

(ii) Activation of the USDA incident management system and the Federal Response Plan responsibilities in the event of a major incident;

(iii) Establishment and oversight of a Departmentwide Incidence Command training program.

(iv) Development and promulgation of policies for the Department regarding emergency preparedness and national security, including matters relating to anti-terrorism and agriculture-related emergency preparedness planning both national and international; and guidance to USDA state and county emergency boards.

(v) Representation and liaison for the Department in contacts with other Federal entities and organizations, including the Office of Homeland Security (or successor organization), the Federal Emergency Management Agency, the National Security Council, the Office of Management and Budget, concerning matters of a national security, natural disaster, other emergencies, and agriculture-related international civil emergency planning and related activities, and as the primary USDA representative for anti-terrorism activities.

(vi) Development and submission of a coordinated budget request for homeland security.

(2) Serve as the USDA focal point to identify, receive, disseminate and store USDA intelligence requirements and convey information to the intelligence community.

(3) Serve as the primary point of contact for GAO and OIG audits of USDA homeland security activities.

(4) Coordinate interaction between Department agencies and private sector businesses and industries in emergency planning and public education under Department authorities delegated or assigned under the Federal Response Plan, the Defense Production Act 50 U.S.C. App. 2061, et seq., and Robert T. Stafford Disaster Relief and Emergency Assistance Act, 42 U.S.C. 5121, et seq.

(5) Serve as the document classification authority for the Department.

(6) Provide staff support to the USDA Homeland Security Council.

(b) [Reserved]

16. Add to § 2.34 paragraph (c) to read as follows:

§ 2.34 Director, National Appeals Division

* * * * *

(c) Prepare a report each year on the number of requests for equitable relief and the disposition of such requests for inclusion in the report of the Secretary to Congress on equitable relief requests made to the Department under farm and conservation programs (7 U.S.C. 7996(g)(2).

17. Revise § 2.35 to read as follows:

§ 2.35 Judicial Officer.

(a) Pursuant to the Act of April 4, 1940, as amended (7 U.S.C. 450c-450g), and Reorganization Plan No. 2 of 1953 (5 U.S.C. app.), the Secretary of Agriculture makes the following delegations of authority to the Judicial Officer. The Judicial Officer is authorized to:

(1) Act as final deciding officer in adjudicatory proceedings subject to 5 U.S.C. 556 and 557;

(2) Act as final deciding officer in adjudicatory proceedings which are or may be subject to the “Rules of Practice Governing Formal Adjudicatory Proceedings Instituted by the Secretary Under Various Statutes” set forth in part 1, subpart H, of this title;

(3) Act as final deciding officer in adjudicatory proceedings which are or may be subject to the “Rules of Practice Governing Cease and Desist Proceedings Under Section 2 of the Capper-Volstead Act” set forth in part 1, subpart I, of this title;

(4) Act as final deciding officer in adjudicatory proceedings subject to the “Procedures Related to Administrative Hearings Under the Program Fraud Civil Remedies Act of 1986” set forth in part 1, subpart L, of this title;

(5) Act as final deciding officer in adjudicatory proceedings subject to the “Rules of Practice Governing Adjudication of Sourcing Area Applications and Formal Review of Sourcing Areas Pursuant to the Forest Resources Conservation and Shortage Relief Act of 1990 (16 U.S.C. 620, et seq.)” set forth in part 1, subpart M, of this title;

(6) Act as final deciding officer in rate proceedings under the Packers and Stockyards Act, as amended and supplemented (7 U.S.C. 181-229);

(7) Act as final deciding officer in reparation proceedings under statutes administered by the United States Department of Agriculture;

(8) Act as final deciding officer in appeals under section 63 of the Plant Variety Protection Act (7 U.S.C. 2443), and in reexamination proceedings under section 91 of the Plant Variety Protection Act, as amended (7 U.S.C.. 2501);

(9) Act as final deciding officer in adjudicatory proceedings under section 359i of the Agricultural Adjustment Act of 1938, as amended (7 U.S.C. 1359ii); and

(10) Issue rules of practice applicable to proceedings conducted under section 359i of the Agricultural Adjustment Act of 1938, as amended (7 U.S.C. 1359ii).

(b) The delegation of authority from the Secretary of Agriculture to the Judicial Officer in paragraph (a) of this section shall not be construed to limit the authority of the Judicial Officer to perform any functions, in addition to those identified in the Act of April 4, 1940, as amended (7 U.S.C. 450c-450g), which may be assigned by the Secretary of Agriculture to the Judicial Officer.

(c) As used in this section, the term Judicial Officer shall mean any person or persons so designated by the Secretary of Agriculture.

Subpart F—Delegations of Authority by the Under Secretary for Farm and Foreign Agricultural Services

18. Amend § 2.42 to revise paragraph (a)(12) and add paragraph (a)(45) through (a)(48) to read as follows:

§ 2.42 Administrator, Farm Service Agency.

(a) * * *

(12) Administer commodity procurement and supply, transportation (other than from point of export, except for movement to trust territories or possessions), handling, payment,and related services in connection with programs under titles II and III of Public Law 480 (7 U.S.C. 1691, 1701, et seq.) and section 3107 of the Farm Security and Rural Investment Act of 2002 (7 U.S.C. 1736o-1) (except for the authority under section 3107(d) to designate federal agencies that is reserved to the President), and payment and related services with respect to export programs and barter operations.

* * * * *

(45) Administer all programs of the Commodity Credit Corporation that provide assistance with respect to the production of agricultural commodities, including disaster assistance and the domestic marketing of such commodities, except as may otherwise be reserved by the Under Secretary for Farm and Agricultural Services.

(46) Administer the following provisions of the Farm Security and Rural Investment Act of 2002 with respect to functions otherwise delegated to the Administrator, Farm Service Agency:

(i) The equitable relief provisions of section 1613 (7 U.S.C. 7996).

(ii) The tracking of benefits under section 1614 (7 U.S.C. 7997).

(iii) The development of a plan and related report to coordinate land retirement and agricultural working land conservation programs under section 2005 (16 U.S.C. 3801 note).

(47) Administer programs for Apple Loans and Emergency Loans for Seed Producers under section 203(f) and 253, respectively, of the Agricultural Risk Protection Act of 2000 (7 U.S.C. 1421 note, Pub. L. 106-224).

(48) Administer evaluations of direct and guaranteed loan programs under section 5301 of the Farm Security and Rural Investment Act of 2002 (7 U.S.C. 1992 note).

* * * * *

19. Amend § 2.43 to add paragraphs (a)(43) and (a)(44) to read as follows:

§ 2.43 Administrator, Foreign Agricultural Service.

(a) * * *

(43) Implement provisions of the Trade Act of 1974 regarding adjustment assistance for farmers. (19 U.S.C. 2401-2401g).

(44) Implement section 3107 of the Farm Security and Rural Investment Act of 2002 (7 U.S.C. 1736o-1), except as otherwise delegated in § 2.42(a)(12) and except for the authority under section 3107(d) to designate federal agencies that is reserved to the President.

* * * * *

Subpart G—Delegations of Authority by the Under Secretary for Rural Development

20. Amend § 2.47 to revise paragraph (a)(4) and add paragraph and (a)(15) to read as follows:

§ 2.47 Administrator, Rural Utilities Service.

(a) * * *

(4) Administer the following sections of the Consolidated Farm and Rural Development Act (7 U.S.C. 1921, et seq.):

(i) Section 306 (7 U.S.C. 1926), related to water and waste facilities.

(ii) Section 306A (7 U.S.C. 1926a).

(iii) Section 306B (7 U.S.C. 1926b).

(iv) Section 306C (7 U.S.C. 1926c).

(v) Section 306D (7 U.S.C. 1926d).

(vii) Section 306E (7 U.S.C. 1926e).

(vii) Sections 309 (7 U.S.C. 1929 and 309A (7 U.S.C. 1929a), relating to assets and programs related to watershed facilities, resource and conservation facilities, and water and waste facilities.

(viii) Section 305 (7 U.S.C. 1926) relating to hazardous weather early warning systems.

(ix) Section 310A (7 U.S.C. 1931), relating to watershed and resource conservation and development.

(x) Section 310B(b) (7 U.S.C. 1932(b)).

(xi) Section 310B(i) (7 U.S.C. 1932(i)), relating to loans for business telecommunications partnerships.

(xii) Section 342 (7 U.S.C. 1013p).

(xiii) Administrative Provisions of subtitle D of the Consolidated Farm and Rural Development Act relating to Rural Utilities Service activities.

(xiv) Section 379B (7 U.S.C. 2009;).

* * * * *

(15) Admnister the SEARCH Grants for Small Communities Program (7 U.S.C. 2009ee et seq.).

* * * * *

21. Amend § 2.48 to revise paragraph (a)(27) and add new paragraphs (a)(2)(vii), (a)(2)(viii), (a)(28), (a)(29) and (a)(30) to read as follows:

§ 2.48 Administrator, Rural-Business Cooperative Service.

(a) * * *

(2) * * *

(vii) Section 378 (7 U.S.C., 2008m) relating to the National Rural Development Partnership; and

(viii) Section 384A et seq. (7 U.S.C. 2009cc et seq.) relating to the Rural Business Investment program.

* * * * *

(27) Administer the assets of the Alternative Agricultural Research and Commercialization Corporation and the funds in the Alternative Agricultural Research and Commercialization Fund in accordance with section 6201 of the Farm Security and Rural Investment Act of 2000 (see note to 7 U.S.C. 5901 (repealed)).

(28) Administer the Value-Added Agricultural Product Market Development Grant program (note to 7 U.S.C. 1621).

(29) Administer the Agriculture Innovation Center Demonstration program (note to 7 U.S.C. 1621).

(30) Administer the Renewable Energy Systems and Energy Efficiency Improvements program (7 U.S.C. 8106).

* * * * *

22. Add to § 2.49, paragraphs (a)(1)(iv) through (vi) and (a)(11) to read as follows:

§ 2.49 Administrator, Rural Housing Service.

(a) * * *

(1) * * *

(iv) Section 379 (7 U.S.C. 2008n) relating to the Rural Telework program.

(v) Section 379A (7 U.S.C. 2008o) relating to the Historic Barn Preservation program.

(vi) Section 379C (7 U.S.C. 2008q) relating to the Farm Workers Training Grant program.

* * * * *

(11) Administer the Rural Firefighters and Emergency Personnel Grant program (7 U.S.C. 2655).

Subpart H—Delegations of Authority by the Under Secretary for Food Safety

23. Add to § 2.53, paragraph (a)(9), to read as follows:

§ 2.53 Administrator, Food Safety and Inspection Service.

(a) * * *

(9) Conduct an education program regarding the availability and safety of processes and treatments that eliminate or substantially reduce the level of pathogens on meat, meat food products, poultry, and poultry products (21 U.S.C. 679b).

* * * * *

Subpart I—Delegations of Authority by the Under Secretary for Food, Nutrition, and Consumer Services

24. Amend § 2.57 to revise paragraph (a)(1) and add paragraph (a)(14) to read as follows:

§ 2.57 Administrator, Food and Nutrition Service.

(a) * * *

(1) Administer the following legislation:

(i) The Food Stamp Act of 1977, as amended (7 U.S.C. 2011-2032).

(ii) Richard B. Russell National School Lunch Act, as amended (42 U.S.C. 1751-1769h), except procurement of agricultural commodities and other foods under section 6 thereof.

(iii) Child Nutrition Act of 1966, as amended (42 U.S.C. 1771-1790).

(iv) Sections 933-939 of the Food, Agriculture, Conservation, and Trade Act Amendments of 1991 (7 U.S.C. 5930 note).

(v) Section 301 of the Healthy Meals for Healthy Americans Act of 1994 (Pub. L. 103-448).

(vi) Section 4402 of the Farm Security and Rural Investment Act of 2002 (7 U.S.C. 3007).

* * * * *

(14) Administer those functions under title IV of the Personal Responsibility and Work Opportunity Reconciliation Act of 1996 (8 U.S.C. 1612) relating to the eligibility of aliens for benefits under the domestic food assistance programs.

* * * * *

Subpart J—Delegations of Authority by the Under Secretary for Natural Resources and Environment

25. Amend § 2.61 to revise paragraphs (a)(4)(v), (a)(13), (a)(18), and (a)(25) and remove and reserve paragraph (a)(19) to read as follows:

§ 2.61 Chief, Natural Resources Conservation Service.

(a) * * *

(4) * * *

(v) The Watershed Protection and Flood Prevention Program under 16 U.S.C. 1001-1010, including rehabilitation of water resource structural measures constructed under certain Department of Agriculture programs under 16 U.S.C. 1012, except for responsibilities assigned to the Rural Housing Service and the Forest Service.

* * * * *

(13) Administer natural resources conservation authorities, including authorities related to programs of the Commodity Credit Corporation that provide assistance with respect to natural resources conservation, under Title XII of the Food Security Act of 1985 (the Act), as amended (16 U.S.C. 3801 et seq.), including the following:

(i) Technical assistance related to the conservation of highly erodible lands and wetlands pursuant to sections 1211-1223 of the Act (16 U.S.C. 3811-3823);

(ii) Technical assistance related to the Conservation Reserve Program authorized by sections 1231-1235A of the Act (16 U.S.C. 3831-3835a);

(iii) The Wetlands Reserve Program and the Emergency Wetlands Reserve Program authorized by sections 1237-1237F of the Act (16 U.S.C. 3837-3837f) and the Emergency Supplemental Appropriations for Relief from the Major, Widespread Flooding in the Midwest Act, Pub. L. 103-75;

(iv) The Conservation Security Program authorized by sections 1238-1238C (16 U.S.C. 3838-3838c);

(v) The Farmland Protection Program authorized by sections 1238H-1238I of the Act (16 U.S.C. 3838h-3838i);

(vi) The Farm Viability Program authorized by section 1238J of the Act (16 U.S.C. 3838j);

(vii) The Environmental Easement Program authorized by sections 1239-1239D of the Act (16 U.S.C. 3839-3839d);

(viii) The Environmental Quality Incentives Program authorized by sections 1240-1240I of the Act (16 U.S.C. 3839aa-3839aa-9);

(xix) The conservation of private grazing lands authorized by section 1240M of the Act (16 U.S.C. 3839bb);

(x) The Wildlife Habitat Incentives Program authorized by section 1240N of the Act (16 U.S.C. 3839bb-1);

(xi) The program for soil erosion and sedimentation control in the Great Lakes basin authorized by section 1240P of the Act (16 U.S.C. 3839bb-3);

(xii) The delivery of technical assistance under section 1242 of the Act (16 U.S.C. 3842), including the approval of persons or entities outside of USDA to provide technical services;

(xiii) The authority for partnerships and cooperation provided by section 1243 of the Act (16 U.S.C. 3843), except for responsibilities assigned to the Under Secretary for Farm and Foreign Agricultural Services; and

(xiv) The incentives for beginning farmers and ranchers and Indian tribes and the protection of certain proprietary information related to natural resources conservation programs as provided by section 1244 of the Act (16 U.S.C. 3844), except for responsibilities assigned to the Administrator, Farm Service Agency.

* * * * *

(18) Administer the agricultural management assistance provisions of section 524(b) of the Federal Crop Insurance Act, as amended (7 U.S.C. 1524(b)), except for responsibilities assigned to the Administrator, Risk Management Agency.

(19) [Removed and reserved]

* * * * *

(25) Administer the following provisions of the Farm Security and Rural Investment Act of 2002 with respect to functions otherwise delegated to the Chief, Natural Resources and Environment:

(i) The equitable relief provisions of section 1613 (7 U.S.C. 7996);

(ii) The tracking of benefits under section 1614 (7 U.S.c. 7997); and

(iii) The development of a plan and related report to coordinate land retirement and agricultural working land conservation programs under section 2005 (16 U.S.C. 3801 note).

* * * * *

Subpart K—Delegations of Authority by the Under Secretary for Research, Education, and Economics

26. Amend § 2.65 to revise paragraphs (a)(40) and (a)(104) to read as follows:

§ 2.65 Administrator, Agricultural Research Service.

(a) * * *

(40) Facilitate access, including through the National Agricultural Library, by research and extension professionals, farmers, and other interested persons in the United States to, and the use by those persons of, organic research conducted outside the United States (7 U.S.C. 5925d).

* * * * *

(104) Administer grants to consortia of land-grant colleges and universities to enhance the ability of the consortia to carry out multi-State research projects aimed at understanding and combating diseases of wheat, triticale, and barley caused by Fusarium graminearum and related fungi or Tilletia indica and related fungi (7 U.S.C. 7628).

* * * * *

27. Amend § 2.66 as follows:

a. Remove and reserve paragraphs (a)(58), (a)(59), (a)(60), (a)(66) through (a)(71), (a)(75), (a)(77), (a)(87), (a)(94), (a)(103), and (a)(112);

b. Revise paragraphs (a)(9), (a)(10), (a)(20), (a)(39), (a)(51), (a)(102), and (a)(124); and

c. Add new paragraphs (a)(21), (a)(38), (a)(40), and (a)(131) through (a)(140) to read as follows:

§ 2.66 Administrator, Cooperative State Research, Education, and Extension Service.

(a) * * *

(9) Make grants and enter into contracts and other agreements for outreach and technical assistance to socially disadvantaged farmers and ranchers (7 U.S.C. 2279(a)(3)).

(10) Administer, in cooperation with land-grant colleges and universities where applicable, a rural development research and extension program, a small farm research and extension program, and a rural health and safety education program under the Rural Development Act of 1972, as amended (7 U.S.C. 2661-2667).

* * * * *

(20) Provide policy direction and coordinate the Department's work with national and international institutions and other persons throughout the world in the performance of agricultural research, extension, teaching, and development activities; administer a program of competitive grants for collaborative projects involving Federal scientists or scientists from colleges and universities working with scientists at international agricultural research centers in other nations focusing either on new technologies and programs for increasing the production of food and fiber or training scientists and a program of competitive grants to colleges and universities to strengthen United States economic competitiveness and to promote international market development; and establish a program in coordination with the Foreign Agricultural Service to place interns from United States colleges and universities at Foreign Agricultural Service field offices overseas (7 U.S.C. 3291, 3292b).

(21) Administer a program of competitive grants to colleges and universities and State cooperative institutions for the acquisition of special purpose scientific research equipment for use in the food and agricultural sciences (7 U.S.C. 3310a).

* * * * *

(38) Develop and implement a program to communicate with the public regarding the use of biotechnology in producing food for human consumption (7 U.S.C. 5921a).

(39) Administer a rural electronic commerce extension program through grants to regional rural development centers and competitive grants to land-grant colleges and universities and to colleges and universities (including community colleges) with agricultural or rural development programs (7 U.S.C. 5923).

(40) Conduct a research initiative known as the Agricultural Genome Initiative; and make grants or enter cooperative agreements on a competitive basis with individuals and organizations to carry out the Initiative (7 U.S.C. 5924).

* * * * *

(51) Administer a cooperative forestry program in accordance with the McIntire-Stennis Cooperative Forestry Act, and administer a competitive forestry, natural resources, and environmental grant program (16 U.S.C. 582a-582a-8).

* * * * *

(58)-(60) [Removed and reserved]

* * * * *

(66)-(71) [Removed and reserved]

* * * * *

(75) [Removed and reserved]

* * * * *

(77) [Removed and reserved]

* * * * *

(87) [Removed and reserved]

* * * * *

(94) [Removed and reserved]

* * * * *

(102) Implement and administer the Community Food Projects Program and the Innovative Programs for Addressing Common Community Problems pursuant to the provisions of section 25 of the Food Stamp Act of 1977 (7 U.S.C. 2034).

(103) [Removed and reserved]

* * * * *

(112) [Removed and reserved]

* * * * *

(124) Administer an Initiative for Future Agriculture and Food Systems (7 U.S.C. 7621).

* * * * *

(131) Cooperate with other Federal agencies (including the National Science Foundation) in issuing joint requests for proposals, awarding grants, and administering grants under any competitive agricultural research, education, or extension grant program (7 U.S.C. 3319b).

(132) Administer a program of competitive grants, establish education teams, and establish an online clearinghouse of curricula and training materials and programs, all for training, education, outreach, and technical assistance initiatives for the benefit of beginning farmers and ranchers (7 U.S.C. 3319f).

(133) Administer agricultural research, education, and extension activities (including through competitive grants), using any authority available to the Secretary, to reduce the vulnerability of the United States food and agricultural system to chemical or biological attack, to continue partnerships with institutions of higher education and other institutions to help form stable, long-term programs to enhance the biosecurity of the United States, to make competitive grants to universities and qualified research institutions for research on counterbioterrorism, and to counter or otherwise respond to chemical or biological attack (7 U.S.C. 3351).

(134) Administer a program of competitive grants to colleges and universities for expansion and security upgrades to enhance the security of agriculture against bioterrorism (7 U.S.C. 3352).

(135) Administer programs for distance education grants and resident instruction grants to eligible institutions in insular areas that have demonstrable capacity to carry out teaching and extension programs in the food and agricultural sciences (7 U.S.C. 3361-3363).

(136) Administer a program of cooperative research (including through competitive award of grants and cooperative agreements to colleges and universities) and extension projects on carbon cycling in soils and plants, the exchange of other greenhouse gases from agriculture, and the carbon sequestration benefits of conservation practices (7 U.S.C. 6711).

(137) Administer a program, in coordination with State veterinarians and other appropriate State animal health professionals, to conduct research, testing, and evaluation of programs for the control and management of Johne's disease in livestock (7 U.S.C. 7629).

(138) Administer a program of grants to the Girl Scouts of the United States of America, the Boy Scouts of America, the National 4-H Council, and the National FFA Organization to establish pilot projects to expand the programs carried out by the organizations in rural areas and small towns (7 U.S.C. 7630).

(139) Oversee implementation of the termination of Federal schedule A civil service appointments of State agricultural extension employees at land-grant colleges and universities (section 7220 of Pub. L. 107-171).

(140) Administer and direct a program of grants to the Food and Agricultural Policy Research Institute (section 10805 of Pub. L. 107-171).

* * * * *

28. Amend § 2.67 to add paragraph (a)(12) and paragraph (a)(18) to read as follows:

§ 2.67 Administrator, Economic Research Service

(a) * * *

(12) Facilitate access by research and extension professionals, farmers, and other interested persons in the United States to, and the use by those persons of, organic research conducted outside the United States (7 U.S.C. 5925d).

* * * * *

(18) Include in each issuance of projections of net farm income an estimate of the net farm income earned by commercial producers in the United States that will in addition show the estimate of net farm income attributable to commercial producers of livestock, loan commodities, and agricultural commodities other than loan commodities (7 U.S.C. 7998).

* * * * *

29. Amend § 2.68 to add paragraphs (a)(10) and (a)(11) to read as follows:

§ 2.68 Administrator, National Agricultural Statistics Service

(a) * * *

(10) Ensure that segregated data on the production and marketing of organic agricultural products is included in the ongoing baseline of data collection regarding agricultural production and marketing (7 U.S.C. 5925c).

(11) Administer a program of mandatory reporting for dairy products and substantially identical products (7 U.S.C. 1637a, 1638b).

* * * * *

Subpart L—Delegations of Authority by the Chief Economist

30. Add to § 2.73 new paragraphs (a)(8) and (a)(9) to read as follows:

§ 2.73 Director, Office of Energy Policy and New Uses.

(a) * * *

(8) Administer a competitive biodiesel fuel education grants program (7 U.S.C. 8104).

(9) Implement a memorandum of understanding with the Secretary of Energy regarding cooperation in the application of hydrogen and fuel cell technology programs for rural communities and agricultural producers (7 U.S.C. 8107).

* * * * *

Subpart N—Delegations of Authority by the Under Secretary for Marketing and Regulatory Programs

31. Revise the subpart heading to read as set forth above.

32. Revise § 2.77 to read as follows:

§ 2.77 Deputy Under Secretary for Marketing and Regulatory Programs.

Pursuant to § 2.22(a), subject to reservations in § 2.22(b), and subject to policy guidance and direction by the Under Secretary, the following delegation of authority is made by the Under Secretary for Marketing and Regulatory Programs to the Deputy Under Secretary for Marketing and Regulatory Programs, to be exercised only during the absence or unavailability of the Under Secretary: Perform all the duties and exercise all the powers which are now or which may hereafter be delegated to the Under Secretary for Marketing and Regulatory Programs.

33. Amend § 2.79 to revise the introductory text of paragraph (a) and add paragraphs (a)(8)(lxiii) through (a)(8)(lxvi) to read as follows:

§ 2.79 Administrator, Agricultural Marketing Service.

(a) Delegations. Pursuant to § 2.22(a)(1), (a)(5) and (a)(8), subject to reservations in § 2.22(b)(1), the following delegations of authority are made by the Assistant Secretary for Marketing and Regulatory Programs to the Administrator, Agricultural Marketing Service:

* * * * *

(8) * * *

(lxiii) Farmers' Market Promotion Program (7 U.S.C. 2005).

(lxiv) National Organic Certification Cost-Share Program (7 U.S.C. 6523).

(lxv) Exemption of Certified Organic Products from Assessment (7 U.S.C. 7401).

(lxvi) Country of Origin Labeling (7 U.S.C. 1638-1638(d)).

(lxvii) Hass Avocado Promotion, Research, and Consumer Information Act of 2000 (7 U.S.C. 7801-7813).

* * * * *

34. Amend § 2.80 to revise the introductory text of paragraph (a) and paragraph (b) and add new paragraphs (a)(52), (a)(53), (a)(54), (a)(55), and (a)(56) to read as follows:

§ 2.80 Administrator, Animal and Plant Health Inspection Service.

(a) Delegations. Pursuant to § 2.22(a)(2) and (a)(6) through (a)(9), and subject to reservations in § 2.22(b)(2), the following delegations of authority are made by the Under Secretary for Marketing and Regulatory Programs to the Administrator, Animal and Plant Health Inspection Service: Exercise functions of the Secretary of Agriculture under the following authorities:

* * * * *

(52) Animal Health Protection Act (7 U.S.C. 8301-8317).

(53) Section 10504 of the Farm Security and Rural Investment Act of 2002 (7 U.S.C. 8318).

(54) Title V of the Agricultural Risk Protection Act of 2000 (7 U.S.C. 2279e and 2279f).

(55) The responsibilities of the United States related to activities of the Office International des Epizooties.

(56) Public Health Security and Bioterrorism Preparedness and Response Act of 2002 (Title II, Subtitles B and C; of the Public Health Security and Bioterrorism Preparedness Response Act of 2002 (7 U.S.C. 8401 note, 8401, 8411)).

(b) Reservation. The following authority is reserved to the Under Secretary for Marketing and Regulatory Programs: The authority to make determinations under 35 U.S.C. 156 as to whether an applicant acted with due diligence.

Subpart O—Delegations of Authority by the Assistant Secretary for Congressional Relations

35. Remove in § 2.85 paragraphs (a)(7) and (a)(8).

Subpart P—Delegations of Authority by the Assistant Secretary for Administration

36. Amend § 2.90 to revise the introductory text of paragraph (a) and to remove and reserve paragraph (a)(2) and revise paragraph (a)(8) to read as follows:

§ 2.90 Director, Office of Outreach.

(a) Delegations. Pursuant to § 2.24(a)(4), the following delegations of authority are made by the Assistant Secretary for Administration to the Director, Office of Outreach:

* * * * *

(2) [Removed and reserved]

* * * * *

(8) Establish requirements and procedures for reporting agency outreach status and accomplishments, including Departmental reporting under the Outreach and Assistance for Socially Disadvantaged Farmers and Ranchers Program (7 U.S.C. 2279).

* * * * *

37. Amend § 2.91 to revise the introductory text of paragraph (a), revise paragraph (a)(1), and add paragraphs (a)(7) and (a)(8) to read as follows:

§ 2.91 Director, Office of Operations.

(a) Delegations. Pursuant to § 2.24(a)(5) and (a)(9), the following delegations of authority are made by the Assistant Secretary for Administration to the Director, Office of Operations:

(1) Provide services for Department headquarters in the Washington, DC metropolitan area and at emergency relocation sites and certain critical facilities specified by the Assistant Secretary for Administration in the following areas:

(i) Acquiring, leasing, utilizing, constructing, maintaining, and disposing of real and personal property, including control of space assignments.

(ii) Acquiring, storing, distributing, and disposing of forms.

(iii) Mail management and all related functions.

(iv) Occupational health services and related functions.

* * * * *

(7) Related to compliance with environmental laws. Take action pursuant to Executive Order 12088, 3 CFR, 1978 Comp., p. 243, to comply with environmental pollution control laws with respect to facilities and activities under his or her authority, including, but not limited to, entering into inter-agency agreements, administrative consent orders, consent judgments, or other agreements with the appropriate Federal, State, interstate, or local agencies to achieve and maintain compliance with applicable pollution control standards.

(8) Manage the Department Emergency Operations Center and alternate facilities.

* * * * *

38. Amend § 2.92 as follows:

a. Revise the introductory text of paragraph (a),

b. Revise paragraphs (a)(7), (a)(9)(xii), and (a)(9)(xiii),

c. Remove and reserve paragraph (a)(10)(xx), and

d. Add paragraphs (a)(24), (a)(25), and (a)(26) to read as follows:

§ 2.92 Director, Office of Human Resources Management

(a) Delegations. Pursuant to § 2.24 (a)(6) and (a)(12), and subject to reservations in § 2.24(b)(1), the following delegations of authority are made by the Assistant Secretary for Administration to the Director, Office of Human Resources Management:

* * * * *

(7) Authorize and make final decisions on adverse actions except in those cases where the Assistant Secretary for Administration or the Director, Office of Human Resources Management, has participated.

* * * * *

(9) * * *

(xii) Authorize and make final decisions on adverse actions for positions in GS-1-15 or equivalent;

(xiii) Authorize and make final decisions on adverse actions for positions in the career Senior Executive Service or equivalent;

* * * * *

(10) * * *

(xx) [Removed and reserved]

* * * * *

(24) Oversee the Conflict Prevention and Resolution Center, the Director of which:

(i) Serves as the Department's Dispute Resolution Specialist under the Administrative Dispute Resolution Act of 1996, 5 U.S.C. 571, et seq., and provides leadership, direction and coordination for the Department's conflict prevention and resolution activities;

(ii) Provides ADR services for:

(A) The Secretary of Agriculture.

(B) The general officers of the Department.

(C) The offices and agencies reporting to the Assistant Secretary for Administration.

(D) Any other officer or agency of the Department as may be agreed.

(iii) Develops and issues standards for mediators and other ADR neutrals utilized by the Department.

(iv) Coordinates ADR activities throughout the Department; and

(v) Monitors Agency ADR programs and reports at least annually to the Secretary on the Department's ADR activities.

(25) Formulate and issue Department policy, standards, rules, and regulations relating to the Senior Scientific Research Service (7 U.S.C. 7657).

(26) Redelegate, as appropriate, any authority delegated under this section to general officers of the Department and heads of Departmental agencies.

* * * * *

39. Amend § 2.93 as follows:

a. Revise the heading, the introductory text to paragraph (a), and paragraphs (a)(2)(i), (a)(11), (a)(12, (a)(17),

b. Remove and reserve paragraphs (a)(1)(vii), (a)(6), and (a)(9), and

c. Add paragraph (a)(18) to read as follows:

§ 2.93 Director, Office of Procurement and Property Management.

(a) Delegations. Pursuant to §§ 2.24(a)(7), (a)(8), (a)(9), and (a)(10), the following delegations of authority are made by the Assistant Secretary for Administration to the Director, Office of Procurement and Property Management:

(1) * * *

(vii) [Removed and reserved]

* * * * *

(2) * * *

(i) The Director, Office of Procurement and Property Management, is designated as the Departmental Debarring Officer and authorized to perform the functions of 48 CFR part 9, subpart 9.4 related to procurement activities, except for commodity acquisitions on behalf of the Commodity Credit Corporation (7 CFR part 1407), with authority to redelegate suspension and debarment authority for contracts awarded under the School Lunch and Surplus Removal Programs (42 U.S.C. 1755 and 7 U.S.C. 612c);

* * * * *

(6) [Removed and reserved]

* * * * *

(9) [Removed and reserved]

* * * * *

(11) Issue regulations and directives to implement or supplement the Federal Acquisition Regulations (48 CFR chapters 1 and 4).

(12) Issue regulations and directives to implement or supplement the Federal Management Regulation (41 CFR part 102) and the Federal Property Management Regulations (41 CFR chapters 101).

* * * * *

(16) Related to Emergency Preparedness. Provide guidance to the development and administration of the Department Continuity of Operations Plan and to USDA participation in Continuity of Government Plan. This includes:

(i) Providing guidance and direction regarding continuity of operations to Departmental staff offices, mission areas, and agencies.

(ii) Representing and acting as liaison for the Department in contacts with other Federal entities and organizations concerning matters of assigned responsibilities.

(iii) Overseeing Department continuity of operations, planning, and emergency relocation facilities to ensure that resources are in a constant state of readiness.

(17) Related to energy and environmental management: (i) Provide program leadership and coordination for USDA's energy conservation and energy efficiency activities pursuant to Executive Order 13123, Greening of the Government Through Efficient Energy Management.

(ii) Promulgate policies, standards, techniques, and procedures, and represent the Department, in prevention, control, and abatement of pollution with respect to Federal facilities and activities under the control of the Department (Executive Order 12088, 3 CFR 1978 Comp., p. 243).

(iii) Review and approve exemptions for USDA contracts, subcontracts, grants, agreements, and loans from the requirements of the Clean Air Act, as amended (42 U.S.C. 7401, et seq.), the Clean Water Act, as amended (33 U.S.C. 1251, et seq.), and Executive Order 11738, 3 CFR, 1971-1975 Comp., p. 799, when he or she determines that the paramount interest of the United States so requires as provided in these acts and Executive Order and the regulations of the Environmental Protection Agency (40 CFR 32.215(b)).

(iv) Provide program leadership and oversight for USDA compliance with applicable pollution control laws and executive orders, including Executive Order 13148, Greening of the Government Through Leadership in Environmental Management.

(v) Coordinate USDA waste prevention, recycling, and procurement, acquisition and use of recycled products and environmentally preferable products, including biobased products, and services, and serve as USDA Environmental Executive, pursuant to Executive Order 13101.

(vi) Serve as Departmental Administration Member and Executive Secretary of the USDA Hazardous Materials Policy Council.

(vii) Represent USDA in consulting or working with the Environmental Protection Agency (EPA), the Council on Environmental Quality, the Domestic Policy Council, and others to develop policies relating to hazardous materials management and Federal facilities compliance with applicable pollution control laws.

(viii) Monitor, review, evaluate, and oversee hazardous materials management program activities and compliance Department-wide.

(ix) Monitor, review, evaluate, and oversee USDA agency expenditures for hazardous materials management program accomplishments.

(x) Prepare for the USDA Hazardous Materials Policy Council the Hazardous Materials Management Program budget request to the Office of Management and Budget (OMB) and Congress, prepare accomplishment reports to Congress, OMB, and EPA, and take a role in the preparation of replies to Congressional inquires.

(xi) Represent USDA on the National Response Team on hazardous spills and oil spills pursuant to the Comprehensive Environmental Response, Compensation, and Liability Act of 1980, as amended (42 U.S.C. 9601, et seq.); the Clean Water Act, as amended (33 U.S.C. 1251, et seq.); Oil Pollution Act, as amended (33 U.S.C. 2701, et seq.); Executive Order 12580, 3 CFR 1987 Comp., p. 193; Executive Order 12777, 3 CFR, 1991 Comp., p. 351, and the National Oil and Hazardous Substances Contingency Plan, 40 CFR Part 300.

(xii) Approve disbursements from the New World Mine Response and Restoration Account, approve the New World Mine Response and Restoration Plan, and make quarterly reports to Congress under Sections 502(d) and (f) of Title V of the Department of the Interior and Related Agencies Appropriations Act of 1998, Public Law 105-83.

(xiii) Ensure that the Hazardous Materials Management Program Department-wide is accomplished with regard to, and in compliance with, Executive Order 12898, Federal Actions to Address Environmental Justice in Minority Populations and Low-Income Populations.

(xiv) Take such action as may be necessary, with the affected agency head and with the concurrence of the General Counsel, including issuance of administrative orders and agreements with any person to perform any response action under sections 106(a) and 122 (except subsection (b)(1)) of the Comprehensive Environmental Response, Compensation, and Liability Act of 1980, as amended (42 U.S.C. 9606(a), 9622), pursuant to sections 4(c)(3) and 4(d)(3) of Executive Order 12580, as amended by Executive Order 13016.

(18) Relating to personnel security and the safeguarding of national security information:

(i) Direct and administer USDA's personnel security and public trust programs established pursuant to Executive Order 12968, Access to Classified Information (3 CFR 1995 Comp. pp 391-402) and 5 CFR part 731.

(ii) Manage the personnel security functions of the Department including programs for eligibility access determinations, obtaining security clearance for USDA employees, denial or revocation of access to national security information, and developing and promulgating policies training.

(iii) Direct and administer USDA's program under which information is safeguard pursuant to Executive Order 12958, Classified National Security Information.

(iv) Establish Information Security (INFOSEC) policies and procedures for classifying, declassifying, safeguarding, and disposing of classified national security information and materials.

(v) Establish procedures under which authorized holders of information may challenge the classification of information believed to be improperly classified or unclassified.

(vi) Take corrective action for violations or infractions under section 5.7 par. (b), of Executive Order 12958.

(vii) Develop and maintain a secure facility for the receipt and safeguarding of classified material.

(viii) Coordinate security activities with the Chief Information Officer who has primary responsibility for PDD 63, Critical Infrastructure Assurance.

* * * * *

40. Amend § 2.94 to remove paragraph (a)(5) and revise the introductory text of paragraph (a) to read as follows:

§ 2.94 Director, Office of Planning and Coordination.

(a) Delegations. Pursuant to § 2.24(a)(11), the following delegations of authority are made by the Assistant Secretary for Administration to the Director, Office of Planning and Coordination:

* * * * *

41. Add subpart R, consisting of § 2.300, to read as follows:

Subpart R—Delegations of Authority by the Assistant Secretary for Civil Rights

42. Redesignate § 2.89 as § 2.300 transfer it to Subpart R, and revise the introductory text of redesignated § 2.300(a) to read as follows:

§ 2.300 Director, Office of Civil Rights.

(a) Pursuant to § 2.25, the following delegations of authority are made by the Assistant Secretary for Civil Rights to the Director, Office of Civil Rights.

* * * * *

PART 15—NONDISCRIMINATION

1. The authority for Part 15 continues to read as follows:

Authority: 5 U.S.C. 301; 29 U.S.C. 794.

§ 15.6 [Amended]

2. In § 15.6, remove the words “Assistant Secretary for Administration” and add, in their place, the words “Assistant Secretary for Civil Rights.”

PART 15f—ADJUDICATIONS UNDER SECTION 741

1. The authority for Part 15f continues to read as follows:

Authority: 5 U.S.C. 301; section 101(a) of Pub. L. 105-277, 112 Stat. 2681; Reorganization Plan No. 2 of 1953 (5 U.S.C. App.).

2. Remove the definition of ASA in § 15f.4 and add, in its place, the definition of ASCR, to read as follows:

§ 15f.4 What do certain words and phrases in these regulations mean?

* * * * *

ASCR means the Assistant Secretary for Civil Rights.

* * * * *

2. In addition to the amendment set forth above, in part 15f remove the word “ASA” and add, in its place, the word “ASCR” in the following places:

a. Section 15f.13(a).

b. Section 15f.16(a).

c. Section 15f.24(a).

PART 371—ORGANIZATION, FUNCTIONS, AND DELEGATIONS OF AUTHORITY

1. The authority citation for part 371 continues to read as follows:

Authority: 5 U.S.C. 301.

2. Amend § 371.3 to revise the section heading and add new paragraphs (b)(2)(xii) and (b)(2)(xiii) to read as follows:

§ 371.3 Plant Protection and Quarantine

* * * * *

(b) * * *

(2) * * *

(xii) Title V of the Agricultural Risk Protection Act of 2000 (7 U.S.C. 2279e and 2279f).

(xiii) title II, Subtitle B, of the Public Health Security and Bioterrorism Preparedness and Response Act of 2002 (7 U.S.C. 8401 not and 8401).

* * * * *

3. Add to § 371.4 paragraphs (b)(3)(xxi), (b)(3)(xxii), (b)(3)(xxiii), and (b)(3)(xxiv) to read as follows:

§ 371.4 Veterinary Services

* * * * *

(b) * * *

(3) * * *

(xxi) Animal Health Protection Act (7 U.S.C. 8301-8317).

(xxii) Section 10504 of the Farm Security and Rural Investment Act of 2002 (7 U.S.C. 8318).

(xxiii) The responsibilities of the United States related to activities of the Office International des Epizooties.

(xxiv) Title II, Subtitles B and C, of the Public Health Security and Bioterrorism Preparedness and Response Act of 2002 (7 U.S.C. 8401 note, 8401, 8411).

* * * * *

For Part 1; Part 2, Subparts A, C, and D; and Parts 15 and 15f:
Dated: April 22, 2003.
Ann M. Veneman,
Secretary of Agriculture.
For Part 2, Subpart F:
Dated: April 29, 2003
J.B. Penn,
Under Secretary for Farm and Foreign Agricultural Services.
For Part 2, Subpart G:
Dated: April 22, 2003.
Thomas C. Dorr,
Under Secretary for Rural Development.
For Part 2, Subpart H:
Dated: April 22, 2003.
Elsa Murano,
Under Secretary for Food Safety.
For Part 2, Subpart I:
Dated: April 24, 2003.
Eric M. Bost,
Under Secretary for Food, Nutrition, and Consumer Services.
For Part 2, Subpart J:
Dated: April 22, 2003.
Mark Rey,
Under Secretary for Natural Resources and Environment.
For Part 2, Subpart K:
Dated: April 23, 2003.
Joseph Jen,
Under Secretary for Research, Education, and Economics.
For Part 2, Subpart L:
Dated: April 24, 2003.
Keith Collins,
Chief Economist.
For Part 2, Subpart N:
Dated: May 2, 2003.
William Hawks,
Under Secretary for Marketing and Regulatory Programs.
For Part 2, Subpart O:
Dated: April 28, 2003.
Mary Waters,
Assistant Secretary for Congressional Relations.
For Part 2, Subpart P:
Dated: April 29, 2003.
Lou Gallegos,
Assistant Secretary for Administration.
For Part 2, Subpart R:
Dated: April 30, 2003.
Vernon B. Parker,
Assistant Secretary for Civil Rights.
For Part 371:
Dated: May 1, 2003.
Bobby Accord,
Administrator, Animal and Plant Health Inspection Service.

[FR Doc. 03-12142 Filed 5-19-03; 8:45 am]

BILLING CODE 3410-01-M